DEPARTMENT OF THE INTERIOR

Fish and Wildlife Service

50 CFR Part 17

[Docket No. FWS-HQ-ES-2021-0156; FF09E21000 FXES1111090FEDR223]

Endangered and Threatened Wildlife and Plants; Review of Species That Are Candidates for Listing as Endangered or Threatened; Annual Notification of Findings on Resubmitted Petitions; Annual Description of Progress on Listing Actions

AGENCY: Fish and Wildlife Service, Interior.

ACTION: Notification of review.

SUMMARY: In this candidate notification of review (CNOR), we, the U.S. Fish and Wildlife Service (Service), present an updated list of plant and animal species that we regard as candidates for or have proposed for addition to the Lists of Endangered and Threatened Wildlife and Plants under the Endangered Species Act of 1973, as amended. This document also includes our findings on resubmitted petitions and describes our progress in revising the Lists of Endangered and Threatened Wildlife and Plants (Lists) during the period October 1, 2020, through September 30, 2021. Combined with other decisions for individual species that were published separately from this CNOR in the past year, the current number of species that are candidates for listing is 27 (as of September 30, 2021). Identification of candidate species can assist environmental planning efforts by providing advance notice of potential listings, and by allowing landowners, resource managers, States, Tribes, range countries, and other stakeholders to take actions to alleviate threats and thereby possibly remove the need to list species as endangered or threatened. Even if we subsequently list a candidate species, the early notice provided here could result in more options for species management and recovery by prompting earlier candidate conservation measures to alleviate threats to the species.

DATES: We will accept information on any of the species in this document at any time.

ADDRESSES: This document is available on the internet at https://www.regulations.gov and https://www.fws.gov/endangered/what-we-do/cnor.html.

Species assessment forms with information and references on a particular candidate species' range, status, habitat needs, and listing priority assignment are available for review on our website (https://ecos.fws.gov/tess_public/reports/candidate-species-report). Please submit any new information, materials, comments, or questions of a general nature on this document to the address listed under FOR FURTHER INFORMATION CONTACT. Please submit any new information, materials, comments, or questions pertaining to a particular species to the address of the Regional Director or Branch Chief in the appropriate office listed under Request for Information in SUPPLEMENTARY INFORMATION.

FOR FURTHER INFORMATION CONTACT: Chief, Branch of Domestic Listing, U.S. Fish and Wildlife Service, MS: ES, 5275 Leesburg Pike, Falls Church, VA 22041-3803 (telephone 703-358-2673). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Endangered Species Act of 1973 (Act; 16 U.S.C. 1531 et seq.), as amended, requires that we identify species of wildlife and plants that are endangered or threatened based solely on the best scientific and commercial data available. As defined in section 3 of the Act, an endangered species is any species that is in danger of extinction throughout all or a significant portion of its range, and a threatened species is any species that is likely to become an endangered species within the foreseeable future throughout all or a significant portion of its range. Through the Federal rulemaking process, we add species that meet these definitions to the List of Endangered and Threatened Wildlife in title 50 of the Code of Federal Regulations (CFR) at § 17.11 (50 CFR 17.11) or the List of Endangered and Threatened Plants at 50 CFR 17.12. As part of this process, we maintain a list of species that we regard as candidates for listing. A candidate species is one for which we have on file sufficient information on biological vulnerability and threats to support a proposal for listing as endangered or threatened, but for which preparation and publication of a proposal is precluded by higher priority listing actions. We may identify a species as a candidate for listing after we have conducted an evaluation of its status—either on our own initiative, or in response to a petition we have received. If we have made a finding on a petition to list a species, and have found that listing is warranted, but precluded by other higher priority listing actions, we will add the species to our list of candidates.

We maintain this list of candidates for a variety of reasons: (1) To notify the public that these species are facing threats to their survival; (2) to provide advance knowledge of potential listings that could affect decisions of environmental planners and developers; (3) to provide information that may stimulate and guide conservation efforts that will remove or reduce threats to these species and possibly make listing unnecessary; (4) to request input from interested parties to help us identify those candidate species that may not require protection under the Act, as well as additional species that may require the Act's protections; and (5) to request necessary information for setting priorities for preparing listing proposals. We encourage collaborative conservation efforts for candidate species and offer technical and financial assistance to facilitate such efforts. For additional information regarding such assistance, please contact the appropriate Office listed under Request for Information, below, or visit our website at: https://www.fws.gov/endangered/what-we-do/index.html.

Previous CNORs

We have been publishing CNORs since 1975. The most recent CNOR addressing species domestic to the United States was published on November 16, 2020 (85 FR 73164). The most recent CNOR addressing foreign species was published on August 9, 2021 (86 FR 43470). CNORs published since 1994 are available on our website at https://www.fws.gov/endangered/what-we-do/cnor.html. For copies of CNORs published prior to 1994, please contact the Branch of Domestic Listing (see FOR FURTHER INFORMATION CONTACT, above).

On September 21, 1983, we published guidance for assigning a listing priority number (LPN) for each candidate species (48 FR 43098). Using this guidance, we assign each candidate an LPN of 1 to 12, depending on the magnitude of threats, immediacy of threats, and taxonomic status; the lower the LPN, the higher the listing priority (that is, a species with an LPN of 1 would have the highest listing priority). Section 4(h)(3) of the Act (16 U.S.C. 1533(h)(3)) requires the Secretary to establish guidelines for such a priority-ranking system. As explained below, in using this system, we first categorize based on the magnitude of the threat(s), then by the immediacy of the threat(s), and finally by taxonomic status.

Under this priority-ranking system, magnitude of threat can be either “high” or “moderate to low.” This criterion helps ensure that the species facing the greatest threats to their continued existence receive the highest listing priority. All candidate species face threats to their continued existence, so the magnitude of threats is in relative terms. For all candidate species, the threats are of sufficiently high magnitude to put them in danger of extinction or make them likely to become in danger of extinction in the foreseeable future. However, for species with higher magnitude threats, the threats have a greater likelihood of bringing about extinction or are expected to bring about extinction on a shorter timescale (once the threats are imminent) than for species with lower-magnitude threats. Because we do not routinely quantify how likely or how soon extinction would be expected to occur absent listing, we must evaluate factors that contribute to the likelihood and time scale for extinction. We therefore consider information such as: (1) The number of populations or extent of range of the species affected by the threat(s), or both; (2) the biological significance of the affected population(s), taking into consideration the life-history characteristics of the species and its current abundance and distribution; (3) whether the threats affect the species in only a portion of its range, and, if so, the likelihood of persistence of the species in the unaffected portions; (4) the severity of the effects and the rapidity with which they have caused or are likely to cause mortality to individuals and accompanying declines in population levels; (5) whether the effects are likely to be permanent; and (6) the extent to which any ongoing conservation efforts reduce the severity of the threat(s).

As used in our priority-ranking system, immediacy of threat is categorized as either “imminent” or “nonimminent,” and is based on when the threats will begin. If a threat is currently occurring or likely to occur in the very near future, we classify the threat as imminent. Determining the immediacy of threats helps ensure that species facing actual, identifiable threats are given priority for listing proposals over species for which threats are only potential or species that are intrinsically vulnerable to certain types of threats but are not known to be presently facing such threats.

Our priority-ranking system has three categories for taxonomic status: Species that are the sole members of a genus; full species (in genera that have more than one species); and subspecies and distinct population segments of vertebrate species (DPSs).

The result of the ranking system is that we assign each candidate a listing priority number of 1 to 12. For example, if the threats are of high magnitude, with immediacy classified as imminent, the listable entity is assigned an LPN of 1, 2, or 3 based on its taxonomic status (i.e., a species that is the only member of its genus would be assigned to the LPN 1 category, a full species to LPN 2, and a subspecies or DPS would be assigned to LPN 3). In summary, the LPN ranking system provides a basis for making decisions about the relative priority for preparing a proposed rule to list a given species. No matter which LPN we assign to a species, each species included in this document as a candidate is one for which we have concluded that we have sufficient information to prepare a proposed rule for listing because it is in danger of extinction or likely to become endangered within the foreseeable future throughout all or a significant portion of its range.

For more information on the process and standards used in assigning LPNs, a copy of the 1983 guidance is available on our website at: http://www.fws.gov/endangered/esa-library/pdf/1983_LPN_Policy_FR_pub.pdf. Information on the LPN assigned to a particular species is summarized in this CNOR, and the species assessment and listing priority assignment form for each candidate contains the LPN chart and a more-detailed explanation—including citations to, and more-detailed analyses of, the best scientific and commercial data available—for our determination of the magnitude and immediacy of threat(s) and assignment of the LPN.

Summary of This CNOR

Since publication of the previous CNORs on November 16, 2020 (domestic), and August 9, 2021 (foreign), we reviewed the available information on candidate species to ensure that a proposed listing is justified for each species, and reevaluated the relative LPN assigned to each species. We also evaluated the need to emergency list any of these species, particularly species with higher priorities (i.e., species with LPNs of 1, 2, or 3). This review and reevaluation ensures that we focus conservation efforts on those species at greatest risk.

After a thorough review of the available scientific and commercial information, we are changing the listing priority number of the San Francisco Bay-Delta DPS of longfin smelt (Spirinchus thaleichthys). In addition, we find that grizzly bears (Ursus arctos horribilis) in the Cabinet-Yaak Ecosystem (CYE) and the Pariette cactus (Sclerocactus brevispinus) no longer meet the definition of an endangered species throughout all or a significant portion of their range, and are no longer warranted for uplisting.

In addition to reviewing candidate species since publication of the last domestic and foreign CNORs, we have worked on findings in response to petitions to list species, on proposed rules to list species under the Act, and on final listing determinations. Some of these findings and determinations have been completed and published in the Federal Register, while work on others is still under way (see Preclusion and Expeditious Progress, below, for details).

Combined with other findings and determinations published separately from this CNOR, 27 species are now candidates awaiting preparation of a proposed listing rule or “not-warranted” finding. Table 5 identifies these 27 candidate species, along with the 31 species proposed for listing as of September 30, 2021.

Table 6 lists the changes for species identified in the previous CNORs and includes 13 species identified in the previous CNORs as either proposed for listing or classified as candidates that are no longer in those categories. This includes twelve species for which we published a final listing rule and one species for which we published a withdrawal of the proposed listing rule.

Petition Findings

The Act provides two mechanisms for considering species for listing. One method allows the Secretary, on the Secretary's own initiative, to identify species for listing under the standards of section 4(a)(1). The second method provides a mechanism for the public to petition us to add a species to the Lists. As described further in the paragraphs that follow, the CNOR serves several purposes as part of the petition process: (1) In some instances (in particular, for petitions to list species that the Service has already identified as candidates on its own initiative), it serves as the initial petition finding; (2) for candidate species for which the Service has made a warranted-but-precluded petition finding, it serves as a “resubmitted” petition finding that the Act requires the Service to make each year; and (3) it documents the Service's compliance with the statutory requirement to monitor the status of species for which listing is warranted but precluded, and to ascertain if they need emergency listing.

First, the CNOR serves as an initial 12-month finding in some instances. Under section 4(b)(3)(A) of the Act, when we receive a petition to list a species, we must determine within 90 days, to the maximum extent practicable, whether the petition presents substantial information indicating that listing may be warranted (a “90-day finding”). If we make a positive 90-day finding, we must promptly commence a status review of the species under section 4(b)(3)(A); we must then make, within 12 months of the receipt of the petition, one of the following three possible findings (a “12-month finding”):

(1) The petitioned action is not warranted, in which case we must promptly publish the finding in the Federal Register;

(2) The petitioned action is warranted (in which case we must promptly publish a proposed regulation to implement the petitioned action; once we publish a proposed rule for a species, sections 4(b)(5) and 4(b)(6) of the Act govern further procedures, regardless of whether or not we issued the proposal in response to a petition); or

(3) The petitioned action is warranted, but (a) the immediate proposal of a regulation and final promulgation of a regulation implementing the petitioned action is precluded by pending proposals to determine whether any species is endangered or threatened, and (b) expeditious progress is being made to add qualified species to the Lists and to remove from the Lists species for which the protections of the Act are no longer necessary. We refer to this third option as a “warranted-but-precluded finding,” and after making such a finding, we must promptly publish it in the Federal Register.

We define “candidate species” to mean those species for which the Service has on file sufficient information on biological vulnerability and threats to support issuance of a proposed rule to list, but for which issuance of the proposed rule is precluded (61 FR 64481; December 5, 1996). The standard for making a species a candidate through our own initiative is identical to the standard for making a warranted-but-precluded 12-month petition finding on a petition to list.

Therefore, all candidate species identified through our own initiative already have received the equivalent of substantial 90-day and warranted-but-precluded 12-month findings. Nevertheless, if we receive a petition to list a species that we have already identified as a candidate, we review the status of the newly petitioned candidate species and in a CNOR publish specific section 4(b)(3) findings (i.e., substantial 90-day and warranted-but-precluded 12-month findings) in response to the petitions to list these candidate species. We publish these findings as part of the first CNOR following receipt of the petition.

Second, the CNOR serves as a “resubmitted” petition finding. Section 4(b)(3)(C)(i) of the Act requires that when we make a warranted-but-precluded finding on a petition, we treat the petition as one that is resubmitted on the date of the finding. Thus, we must make a 12-month petition finding for each such species at least once a year in compliance with section 4(b)(3)(B) of the Act, until we publish a proposal to list the species or make a final not-warranted finding. We make these annual resubmitted petition findings through the CNOR. To the extent these annual findings differ from the initial 12-month warranted-but-precluded finding or any of the resubmitted petition findings in previous CNORs, they supersede the earlier findings, although all previous findings are part of the administrative record for the new finding, and in the new finding, we may rely upon them or incorporate them by reference as appropriate, in addition to explaining why the finding has changed. We have identified the candidate species for which we received petitions and made a continued warranted-but-precluded finding on a resubmitted petition by the code “C*” in the category column on the left side of Table 5, below.

Third, through undertaking the analysis required to complete the CNOR, the Service determines if any candidate species needs emergency listing. Section 4(b)(3)(C)(iii) of the Act requires us to implement a system to monitor effectively the status of all species for which we have made a warranted-but-precluded 12-month finding and to make prompt use of the emergency listing authority under section 4(b)(7) to prevent a significant risk to the well-being of any such species. The CNOR plays a crucial role in the monitoring system that we have implemented for all candidate species by providing notice that we are actively seeking information regarding the status of those species. We review all new information on candidate species as it becomes available, prepare an annual species assessment form that reflects monitoring results and other new information, and identify any species for which emergency listing may be appropriate. If we determine that emergency listing is appropriate for any candidate, we will make prompt use of the emergency listing authority under section 4(b)(7) of the Act.

A number of court decisions have elaborated on the nature and specificity of information that we must consider in making and describing the petition findings in the CNOR. The CNOR that published on November 9, 2009 (74 FR 57804), describes these court decisions in further detail. As with previous CNORs, we continue to incorporate information of the nature and specificity required by the courts. For example, we include a description of the reasons why the listing of every petitioned candidate species is both warranted and precluded at this time. We make our determinations of preclusion on a nationwide basis to ensure that the species most in need of listing will be addressed first and also because we allocate our listing budget on a nationwide basis. Our preclusion determinations are further based upon our budget for listing activities for non-listed species only, and we explain the priority system and why the work we have accomplished has precluded action on listing candidate species.

In preparing this CNOR, we reviewed the current status of, and threats to, the 27 candidates for which we have received a petition to list and the 4 listed species for which we have received a petition to reclassify from threatened to endangered, where we found the petitioned action to be warranted but precluded. We find that the immediate issuance of a proposed rule and timely promulgation of a final rule for each of these species has been, for the preceding months, and continues to be, precluded by higher priority listing actions. However, for six of these candidate species, we are currently engaged in a thorough review of all available data to determine whether to proceed with a proposed listing rule; as a result of this review, we may conclude that listing is no longer warranted. For the North Cascades grizzly bear ecosystem population, we are engaged in a thorough review of all available data to determine the appropriate status for this entity (see Petitions To Reclassify Species Already Listed, below). For the remaining candidates and two listed species—delta smelt, and northern spotted owl, which are candidates for reclassification from threatened to endangered—we are providing updated species assessment forms and a summary of those assessments in this document (see Petitions to Reclassify Species Already Listed, below). Additional information that is the basis for this finding is found in the species assessment forms and our decision file for each species.

The immediate publication of proposed rules to list these species was precluded by our work on higher priority listing actions, listed below, during the period from October 1, 2020, through September 30, 2021. Below we describe the actions that continue to preclude the immediate proposal and final promulgation of a regulation implementing each of the petitioned actions for which we have made a warranted-but-precluded finding, and we describe the expeditious progress we are making to add qualified species to, and remove species from, the Lists. We will continue to monitor the status of all candidate species, including petitioned species, as new information becomes available to determine if a change in status is warranted, including the need to emergency list a species under section 4(b)(7) of the Act. As described above, under section 4 of the Act, we identify and propose species for listing based on the factors identified in section 4(a)(1)—either on our own initiative or through the mechanism that section 4 provides for the public to petition us to add species to the Lists of Endangered or Threatened Wildlife and Plants.

Preclusion and Expeditious Progress

To make a finding that a particular action is warranted but precluded, the Service must make two determinations: (1) That the immediate proposal and timely promulgation of a final regulation is precluded by pending proposals to determine whether any species is endangered or threatened; and (2) that expeditious progress is being made to add qualified species to either of the Lists and to remove species from the Lists (16 U.S.C. 1533(b)(3)(B)(iii)).

Preclusion

A listing proposal is precluded if the Service does not have sufficient resources available to complete the proposal because there are competing demands for those resources and the relative priority of those competing demands is higher. Thus, in any given fiscal year (FY), multiple factors dictate whether it will be possible to undertake work on a proposed listing regulation or whether promulgation of a proposal is precluded by higher priority listing actions—(1) the amount of resources available for completing the listing-related function, (2) the estimated cost of completing the proposed listing regulation, and (3) the Service's workload, along with the Service's prioritization of the proposed listing regulation, in relation to other actions in its workload.

Available Resources

The resources available for listing-related actions are determined through the annual Congressional appropriations process. In FY 1998 and for each fiscal year since then, Congress has placed a statutory cap on funds that may be expended for the Listing Program (spending cap). This spending cap was designed to prevent the listing function from depleting funds needed for other functions under the Act (for example, recovery functions, such as removing species from the Lists), or for other Service programs (see House Report 105-163, 105th Congress, 1st Session, July 1, 1997). The funds within the spending cap are available to support work involving the following listing actions: Proposed and final rules to add species to the Lists or to change the status of species from threatened to endangered; 90-day and 12-month findings on petitions to add species to the Lists or to change the status of a species from threatened to endangered; annual “resubmitted” petition findings on prior warranted-but-precluded petition findings as required under section 4(b)(3)(C)(i) of the Act; critical habitat petition findings; proposed rules designating critical habitat or final critical habitat determinations; and litigation-related, administrative, and program-management functions (including preparing and allocating budgets, responding to Congressional and public inquiries, and conducting public outreach regarding listing and critical habitat).

For more than two decades, the size and cost of the workload in these categories of actions have far exceeded the amount of funding available to the Service under the spending cap for completing listing and critical habitat actions under the Act. As we cannot exceed the spending cap without violating the Anti-Deficiency Act (31 U.S.C. 1341(a)(1)(A)), each year we have been compelled to determine that work on at least some actions was precluded by work on higher-priority actions. We make our determinations of preclusion on a nationwide basis to ensure that the species most in need of listing will be addressed first, and because we allocate our listing budget on a nationwide basis. Through the listing cap and the amount of funds needed to complete court-mandated actions within the cap, Congress and the courts have in effect determined the amount of money remaining (after completing court-mandated actions) for listing activities nationwide. Therefore, the funds that remain within the listing cap—after paying for work needed to comply with court orders or court-approved settlement agreements—set the framework within which we make our determinations of preclusion and expeditious progress.

For FY 2021, through the Consolidated Appropriations Act, 2021 (Pub. L. 116-260, December 27, 2020), Congress appropriated $20,767,000 for all domestic and foreign listing work. The amount of funding Congress will appropriate in future years is uncertain.

Costs of Listing Actions

The work involved in preparing various listing documents can be extensive, and may include, but is not limited to: Gathering and assessing the best scientific and commercial data available and conducting analyses used as the basis for our decisions; requesting peer and partner review on our analyses that support listing decisions and incorporating those comments, as appropriate; writing and publishing documents; and obtaining, reviewing, and evaluating public comments on proposed rules and incorporating relevant information from those comments into final rules. The number of listing actions that we can undertake in a given year also is influenced by the complexity of those listing actions; that is, more complex actions generally are more costly. Our practice of proposing to designate critical habitat concurrently with listing domestic species requires additional coordination and an analysis of the economic impacts of the designation, and thus adds to the complexity and cost of our work. Completing all of the outstanding listing and critical habitat actions has for so long required more funding than is available within the spending cap that the Service has developed several ways to prioritize its workload actions and to identify the work it can complete with the available funding for listing and critical habitat actions each year.

Prioritizing Listing Actions

The Service's Listing Program workload is broadly composed of four types of actions, which the Service prioritizes as follows: (1) Compliance with court orders and court-approved settlement agreements requiring that petition findings or listing determinations or critical habitat designations be completed by a specific date; (2) essential litigation-related, administrative, and listing program-management functions; (3) section 4 (of the Act) listing and critical habitat actions with absolute statutory deadlines; and (4) section 4 listing actions that do not have absolute statutory deadlines.

In previous years, the Service received many new petitions, including multiple petitions to list numerous species—in one example, a single petition sought to list 404 domestic species. The emphasis that petitioners placed on seeking listing for hundreds of species at a time through the petition process significantly increased the number of actions within the third category of our workload—actions that have absolute statutory deadlines for making findings on those petitions. In addition, the necessity of dedicating all of the Listing Program funding towards determining the status of 251 candidate species and complying with other court-ordered requirements between 2011 and 2016 added to the number of petition findings awaiting action. Because we are not able to work on all of these at once, the Service's most recent effort to prioritize its workload focuses on addressing the backlog in petition findings that has resulted from the influx of large multi-species petitions and the 5-year period in which the Service was compelled to suspend making 12-month findings for most of those petitions. The number of petitions awaiting status reviews and accompanying 12-month findings illustrates the considerable extent of this backlog. As a result of the outstanding petitions to list hundreds of species, and our efforts to make initial petition findings within 90 days of receiving the petition to the maximum extent practicable, at the beginning of FY 2021 we had 408 12-month petition findings yet to be initiated and completed.

To determine the relative priorities of the outstanding 12-month petition findings, the Service developed a prioritization methodology (methodology) (81 FR 49248; July 27, 2016), after providing the public with notice and an opportunity to comment on the draft methodology (81 FR 2229; January 15, 2016). Under the methodology, we assign each 12-month finding to one of five priority bins: (1) The species is critically imperiled; (2) strong data are already available about the status of the species; (3) new science is underway that would inform key uncertainties about the status of the species; (4) conservation efforts are in development or underway and likely to address the status of the species; or (5) the available data on the species are limited. As a general matter, 12-month findings with a lower bin number have a higher priority than, and are scheduled before, 12-month findings with a higher bin number. However, we make some limited exceptions—for example, we may schedule a lower-priority finding earlier if batching it with a higher-priority finding would generate efficiencies. We may also consider whether there are any special circumstances whereby an action should be moved up (or down) in scheduling. For example, one limitation that might result in divergence from priority order is when the current highest priorities are clustered in a geographic area, such that our scientific expertise at the field office level is fully occupied with their existing workload. We recognize that the geographic distribution of our scientific expertise will in some cases require us to balance workload across geographic areas. Since before Congress first established the spending cap for the Listing Program in 1998, the Listing Program workload has required considerably more resources than the amount of funds Congress has allowed for the Listing Program. Therefore, it is important that we be as efficient as possible in our listing process.

After finalizing the prioritization methodology, we then applied that methodology to develop a multi-year workplans for domestic and foreign species for completing the outstanding status assessments and accompanying 12-month findings, along with other outstanding work such as designating critical habitat and acting on the status of candidate species.

Domestic Species Workplan

The purpose of the National Listing Workplan (Workplan) is to provide transparency and predictability to the public about when the Service anticipates completing specific 12-month findings for domestic species while allowing for flexibility to update the Workplan when new information changes the priorities. In January 2021, the Service released its updated Workplan for addressing the Act's domestic listing and critical habitat decisions over the subsequent 5 years. The updated Workplan identified the Service's schedule for addressing all domestic species on the candidate list and conducting 265 status reviews and accompanying 12-month findings by FY 2025 for domestic species that have been petitioned for Federal protections under the Act. The National Listing Workplan is available online at: https://www.fws.gov/endangered/what-we-do/listing-workplan.html.

Foreign Species Workplan

Similar to the National Listing Workplan, the Foreign Species Workplan provides the Service's multi-year schedule for addressing our listing workload. The Foreign Species Workplan provides transparency and predictability to the public about when the Service anticipates completing specific 12-month findings and candidate species while allowing for flexibility to update the Foreign Species Workplan when new information changes the priorities. In September 2021, the Service released its most recent Foreign Species Workplan for addressing the Act's foreign listing decisions over the subsequent 5 years. The Foreign Species Workplan identifies the Service's prioritization for addressing all foreign species on the candidate list and 46 status reviews and accompanying 12-month findings for petitioned species, and identifies which actions we plan to complete by FY 2026. As we implement our Foreign Species Workplan and work on 12-month findings and proposed rules for the highest-priority species, we increase efficiency by preparing multi-species proposals when appropriate, and these may include species with lower priority if they overlap geographically or have the same threats as one of the highest-priority species. The Foreign Species Workplan is available online at: https://www.fws.gov/endangered/what-we-do/foreign-listing-workplan.html.

For the 12-month findings, consistent with our prioritization methodology, within the five priority bins we determine the relative timing of foreign species actions using sub-ranking considerations, i.e., as tie-breakers for determining relative timing within each of the five bins (see the August 9, 2021 CNOR (86 FR 43474-43476) for a detailed description of tie-breakers). We consider the extent to which the protections of the Act would be able to improve conditions for that species and its habitat relative to the other species within the same bin, and in doing so, we give weight to the following considerations, in order from greater weight to lesser weight.

1. FWS Office of Law Enforcement (OLE) enforcement capacity

2. Species in trade to or from the United States

3. Species in trade through U.S. ports (i.e., in-transit or transshipment)

4. Within the United States, interstate trade

5. CITES status

6. IUCN Red List status

Prioritization of Domestic and Foreign Species

An additional way in which we determine relative priorities of outstanding actions for species in the section 4 program is application of the listing priority guidelines (48 FR 43098; September 21, 1983; see Previous CNORs above). Proposed rules for listing foreign species, including foreign candidate species, are generally lower in priority than domestic listings because we generally have more resources and authorities to achieve higher conservation outcomes when listing domestic species. The Service has a responsibility to conserve both domestic and foreign species; however, our choice to dedicate the bulk of our funding cap to domestic actions is a rational one given the likelihood of obtaining better conservation outcomes for domestic species versus foreign species under the Act. The Act makes no distinction between foreign species and domestic species in listing species as threatened or endangered. The protections of the Act generally apply to both listed foreign species and domestic species, and section 8 of the Act provides authorities for international cooperation on foreign species. However, some significant differences in the Service's authorities result in differences in our ability to affect conservation for foreign and domestic species under the Act. The major differences are that the Service has no regulatory jurisdiction over take of a listed species in a foreign country, or of trade in listed species outside the United States by persons not subject to the jurisdiction of the United States. 50 CFR 17.21. The Service also does not designate critical habitat within foreign countries or in other areas outside of the jurisdiction of the United States. 50 CFR 424.12(g).

Additionally, section 7 of the Act in part requires Federal agencies to ensure that activities they authorize, fund, or carry out are not likely to jeopardize the continued existence of the species or destroy or adversely modify its critical habitat, and to enter into consultation with the Service if a Federal action may affect a listed species or its critical habitat. An “action” that is subject to the consultation provisions of section 7(a)(2) is defined in our implementing regulations at 50 CFR 402.02 as “all activities or programs of any kind authorized, funded, or carried out, in whole or in part, by Federal agencies in the United States or upon the high seas.” In view of this regulatory definition, foreign species are rarely subject to section 7 consultation, apart from consultations for permits issued under the Act. This differs from the considerable benefits section 7 affords to domestic species whose life cycle occurs in whole or in part in the United States, and for which we do designate critical habitat, which are routinely subject to section 7 consultations and the conservation benefits that result from those.

These differences in the Service's authorities for foreign and domestic species under the Act, including relating to take, critical habitat, and section 7 consultation, means that listing foreign species is likely to have relatively less conservation effect than for domestic species. The protections of the Act through listing are likely to have their greatest conservation effect for foreign species that are in trade to, from, through, or within the United States. The majority (likely 15 out of the 19) of current foreign candidate species are not known to be in trade. Therefore, we made a rational decision to dedicate more resources to listing domestic species.

Additionally, proposed rules for reclassification of threatened species status to endangered species status (uplisting) are generally lower in priority because, as listed species, they are already afforded the protections of the Act and implementing regulations. However, for efficiency reasons, we may choose to work on a proposed rule to reclassify a species to endangered species status if we can combine this with higher-priority work.

Listing Program Workload

The National Listing Workplan that the Service released in 2021 outlined work for domestic species over the period from FY 2021 to FY 2025. The Foreign Species Workplan that the Service released in 2021 outlined work for foreign species over the period from FY 2020 to FY 2026. Tables 1 and 2 under Expeditious Progress, below, identify the higher-priority listing actions that we completed through FY 2021 (September 30, 2021), as well as those we have been working on in FY 2021 but have not yet completed. For FY 2021, our workload includes 49 12-month findings or proposed listing actions that are at various stages of completion at the time of this finding. In addition to the actions scheduled in the National Listing Workplan and the Foreign Species Workplan (“Workplans”), the overall Listing Program workload also includes development and revision of regulations required by new court orders or settlement agreements to address the repercussions of any new court decisions, and proposed and final critical habitat designations or revisions for species that have already been listed. The Service's highest priorities for spending its funding in FY 2021 are actions included in the Workplans and actions required to address court decisions.

Expeditious Progress

As explained above, a determination that listing is warranted but precluded must also demonstrate that expeditious progress is being made to add and remove qualified species to and from the Lists. Please note that in the Code of Federal Regulations, the “Lists” are grouped as one list of endangered and threatened wildlife (see 50 CFR 17.11(h)) and one list of endangered and threatened plants (see 50 CFR 17.12(h)). However, the “Lists” referred to in the Act mean one list of endangered species (wildlife and plants) and one list of threatened species (wildlife and plants). For the purposes of evaluating our expeditious progress, when we refer to the “Lists,” we mean this latter grouping of one list of endangered species and one list of threatened species.

As with our “precluded” finding, the evaluation of whether expeditious progress is being made is a function of the resources available and the competing demands for those funds. As discussed earlier, the FY 2021 appropriations law appropriated $20,767,000 for all domestic and foreign listing activities.

As discussed below, given the limited resources available for listing, the competing demands for those funds, and the completed work catalogued in the tables below, we find that we are making expeditious progress to add qualified species to the Lists and to remove from the Lists species for which the protections of the Act are no longer necessary.

The work of the Service's domestic listing and foreign listing programs in FY 2021 (as of September 30, 2021) includes all three of the steps necessary for adding species to the Lists: (1) Identifying species that may warrant listing (including 90-day petition findings); (2) undertaking an evaluation of the best available scientific data about those species and the threats they face to determine whether or not listing is warranted (a status review and, for petitioned species, an accompanying 12-month finding); and (3) adding qualified species to the Lists (by publishing proposed and final listing rules). We explain in more detail how we are making expeditious progress in all three of the steps necessary for adding qualified species to the Lists (identifying, evaluating, and adding species). Subsequent to discussing our expeditious progress in adding qualified species to the Lists, we explain our expeditious progress in removing from the Lists species that no longer require the protections of the Act.

First, we are making expeditious progress in identifying species that may warrant listing. In FY 2021 (as of September 30, 2021), we completed 90-day findings on petitions to list 19 domestic species. For foreign species, we did not receive petitions to list species in FY 2021 and do not have any petitions pending for which a 90-day finding has not been made (as of September 30, 2021).

Second, we are making expeditious progress in evaluating the best scientific and commercial data available about species and threats they face (status reviews) to determine whether or not listing is warranted. In FY 2021 (as of September 30, 2021), we completed 12-month findings for 68 domestic species and 23 foreign species. In addition, we funded and initiated 12-month findings for 36 domestic species and 5 foreign species and proposed listing determinations for 3 candidates. Although we did not complete those actions during FY 2021 (as of September 30, 2021), we made expeditious progress towards doing so by initiating and making progress on the status reviews to determine whether adding the species to the Lists is warranted.

Third, we are making expeditious progress in adding qualified species to the Lists. In FY 2021 (as of September 30, 2021), we published final listing rules for 10 domestic species and 1 foreign species, including final critical habitat designations for 4 of those domestic species and final protective regulations under the Act's section 4(d) for 4 of those domestic species. In addition, we published proposed rules to list an additional 21 domestic species and 3 foreign species (including concurrent proposed critical habitat designations for 13 domestic species and concurrent protective regulations under the Act's section 4(d) for 10 domestic species and 2 foreign species).

Fourth, we are also making expeditious progress in removing (delisting) species, as well as reclassifying endangered species to threatened species status (downlisting). Delisting and downlisting actions are funded through the recovery line item in the budget of the Endangered Species Program. Thus, delisting and downlisting actions do not factor into our assessment of preclusion; that is, work on recovery actions does not preclude the availability of resources for completing new listing work. However, work on recovery actions does count towards our assessment of making expeditious progress because the Act states that expeditious progress includes both adding qualified species to, and removing qualified species from, the Lists of Endangered and Threatened Wildlife and Plants. In FY 2021 (as of September 30, 2021), we finalized downlisting rules for 2 domestic species with concurrent final protective regulations under the Act's section 4(d), finalized delisting rules for 8 domestic species, proposed downlisting rules for 8 domestic species (including concurrent protective regulations under the Act's section 4(d) for 7 domestic species), and proposed delisting rules for 34 domestic species. The rate at which the Service has completed delisting and downlisting actions in FY 2021 (as of September 30, 2021) is higher than any point in the history of the Act, which underscores the expeditious progress we are making.

Preclusion and Expeditious Progress

The tables below catalog the Service's progress in FY 2021 (as of September 30, 2021) as it pertains to our evaluation of preclusion and expeditious progress. Table 1 includes completed and published domestic and foreign listing actions; Table 2 includes domestic and foreign listing actions funded and initiated in previous fiscal years and in FY 2021 that were not yet complete as of September 30, 2021; and Table 3 includes completed and published proposed and final downlisting and delisting actions for domestic and foreign species.

Table 1—Completed Domestic and Foreign Listing Actions (Proposed and Final Listing and Uplisting Rules) in FY 2021 as of September 30, 2021
Publication date | Title | Action(s) | Federal Register citation
10/8/2020 | Threatened Species Status for Coastal Distinct Population Segment of the Pacific Marten With a Section 4(d) Rule | Final Listing—Threatened with Section 4(d) Rule | 85 FR 63806-63831
10/8/2020 | Threatened Species Status for Eastern Black Rail With a Section 4(d) Rule | Final Listing—Threatened with Section 4(d) Rule | 85 FR 63764-63803
10/13/2020 | Threatened Species Status With Section 4(d) Rule for Puerto Rican Harlequin Butterfly and Designation of Critical Habitat | Proposed Listing—Threatened with Section 4(d) Rule and Critical Habitat and 12-Month Petition Finding | 85 FR 64908-64937
11/3/2020 | Endangered Species Status for the Canoe Creek Clubshell and Designation of Critical Habitat | Proposed Listing—Endangered with Critical Habitat and 12-Month Petition Finding | 85 FR 69540-69563
11/12/2020 | Threatened Species Status With Section 4(d) Rule for Sickle Darter | Proposed Listing—Threatened with a Section 4(d) Rule and 12-Month Petition Finding | 85 FR 71859-71873
11/16/2020 | Review of Domestic Species That Are Candidates for Listing as Endangered or Threatened; Annual Notification of Findings on Resubmitted Petitions; Annual Description of Progress on Listing Actions | CNOR and 12-Month Petition Findings | 85 FR 73164-73179
11/19/2020 | Threatened Species Status With Section 4(d) Rule for the Upper Coosa River Distinct Population Segment of Frecklebelly Madtom and Designation of Critical Habitat | Proposed Listing—Threatened with a Section 4(d) Rule and Critical Habitat and 12-Month Petition Finding | 85 FR 74050-74088
12/1/2020 | Endangered Species Status for the Peppered Chub and Designation of Critical Habitat | Proposed Listing—Endangered with Critical Habitat and 12-Month Petition Finding | 85 FR 77108-77138
12/2/2020 | Threatened Species Status for Pinus albicaulis (Whitebark Pine) With Section 4(d) Rule | Proposed Listing—Threatened with a Section 4(d) Rule | 85 FR 77408-77424
12/3/2020 | Eleven Species Not Warranted for Listing as Endangered or Threatened Species * | 12-Month Petition Findings | 85 FR 78029-78038
12/15/2020 | 12-Month Finding for the Northern Spotted Owl | 12-Month Petition Finding | 85 FR 81144-81152
12/17/2020 | 12-Month Finding for the Monarch Butterfly | 12-Month Petition Finding | 85 FR 81813-81822
3/4/2021 | Endangered Species Status for Arizona Eryngo and Designation of Critical Habitat | Proposed Listing—Endangered with Critical Habitat | 86 FR 12563-12591
3/9/2021 | Endangered Species Status for the Missouri Distinct Population Segment of Eastern Hellbender | Final Listing—Endangered | 86 FR 13465-13475
3/24/2021 | 90-Day Findings for Three Species | 90-Day Petition Findings | 86 FR 15637-15639
4/7/2021 | 12-Month Petition Finding and Threatened Species Status With Section 4(d) Rule for Suwannee Alligator Snapping Turtle | Proposed Listing—Threatened with a Section 4(d) Rule and 12-Month Petition Finding | 86 FR 18014-18034
4/13/2021 | Threatened Species Status for Streaked Horned Lark With Section 4(d) Rule | Proposed Listing—Threatened with a Section 4(d) Rule | 86 FR 19186-19207
4/26/2021 | Listing the Yangtze Sturgeon as an Endangered Species | Final Listing—Endangered | 86 FR 21950-21961
5/5/2021 | Three Salamander Species Not Warranted for Listing as Endangered or Threatened Species | 12-Month Petition Findings | 86 FR 23869-23872
5/11/2021 | 90-Day Findings for Three Species | 90-Day Petition Findings | 86 FR 25833-25836
5/11/2021 | Two Species Not Warranted for Listing as Endangered or Threatened Species * | 12-Month Petition Findings | 86 FR 25806-25808
6/1/2021 | Lesser Prairie-Chicken; Threatened Status With Section 4(d) Rule for the Northern Distinct Population Segment and Endangered Status for the Southern Distinct Population Segment | Proposed Listing—Endangered; Threatened with a Section 4(d) Rule | 86 FR 29432-29482
6/4/2021 | Finding on a Petition To List the Tiehm's Buckwheat as Threatened or Endangered | 12-Month Petition Finding | 86 FR 29975-29977
6/9/2021 | Threatened Species Status With Section 4(d) Rule for Neuse River Waterdog, Endangered Species Status for Carolina Madtom, and Designations of Critical Habitat | Final Listing—Threatened with Section 4(d) Rule and Critical Habitat; Endangered and Critical Habitat | 86 FR 30688-30751
6/15/2021 | Threatened Species Status for Mount Rainier White-Tailed Ptarmigan With a Section 4(d) Rule | Proposed Listing—Threatened with a Section 4(d) Rule | 86 FR 31668-31692
6/15/2021 | Endangered Status for the Beardless Chinchweed and Designation of Critical Habitat | Final Listing—Endangered with Critical Habitat | 86 FR 31830-31868
6/17/2021 | 90-Day Findings for Two Species | 90-Day Petition Findings | 86 FR 32241-32243
7/15/2021 | Designation of Critical Habitat for Rufa Red Knot (Calidris canutus rufa) | Proposed Critical Habitat | 86 FR 37410-37668
7/27/2021 | 90-Day Findings for Three Species | 90-Day Petition Findings | 86 FR 40186-40189
8/3/2021 | Endangered Species Status for the Sierra Nevada Distinct Population Segment of the Sierra Nevada Red Fox | Final Listing—Endangered | 86 FR 41743-41758
8/4/2021 | Threatened Species Status With Section 4(d) Rule for Emperor Penguin | Proposed Listing—Threatened with Section 4(d) Rule | 86 FR 41917-41934
8/9/2021 | Review of Foreign Species That Are Candidates for Listing as Endangered or Threatened; Annual Description of Progress on Listing Actions | CNOR and 12-Month Petition Findings | 86 FR 43470-43490
8/24/2021 | Endangered Species Status for Franklin's Bumble Bee | Final Listing—Endangered | 86 FR 47221-47238
8/25/2021 | Endangered Species Status for Amur Sturgeon | Proposed Listing—Endangered | 86 FR 47457-47468
8/26/2021 | Endangered and Threatened Wildlife and Plants; Endangered Species Status With Critical Habitat for Guadalupe Fatmucket, Texas Fatmucket, Guadalupe Orb, Texas Pimpleback, and False Spike, and Threatened Species Status With Section 4(d) Rule and Critical Habitat for Texas Fawnsfoot | Proposed Listing—Endangered with Critical Habitat; Threatened with Section 4(d) Rule and Critical Habitat and 12-Month Petition Findings | 86 FR 47916-48011
8/31/2021 | Threatened Status With Section 4(d) Rule for the Dolphin and Union Caribou and 12-Month Finding for the Peary Caribou | Proposed Listing—Threatened with Section 4(d) Rule and 12-Month Petition Findings | 86 FR 48619-48649
8/31/2021 | Threatened Species Status for Bartram's Stonecrop With a Section 4(d) Rule | Final Listing—Threatened with Section 4(d) Rule | 86 FR 48545-48569
9/7/2021 | 90-Day Finding on a Petition To Revise Critical Habitat for the Jaguar | 90-Day Petition Finding | 86 FR 49985-49989
9/7/2021 | Threatened Species Status With Section 4(d) Rule for Pyramid Pigtoe | Proposed Listing—Threatened with Section 4(d) Rule | 86 FR 49989-50011
9/8/2021 | Endangered Species Status for Slenderclaw Crayfish and Designation of Critical Habitat | Final Listing—Endangered with Critical Habitat | 86 FR 50264-50287
9/17/2021 | 90-Day Finding for Two Petitions To List the Gray Wolf in the Western United States | 90-Day Petition Findings | 86 FR 51857-51859
9/27/2021 | 17 Species Not Warranted for Listing as Endangered or Threatened Species * | 12-Month Petition Findings | 86 FR 53255-53261
9/28/2021 | Endangered Species Status for the Peñasco Least Chipmunk and Designation of Critical Habitat | Proposed Listing—Endangered with Critical Habitat and 12-Month Petition Finding | 86 FR 53583-53609
9/28/2021 | Endangered Status for South Llano Springs Moss and Designation of Critical Habitat | Proposed Listing—Endangered with Critical Habitat and 12-Month Petition Finding | 86 FR 53609-53627
9/29/2021 | 90-Day Findings for Five Species | 90-Day Petition Findings | 86 FR 53937-53941
9/29/2021 | Two Species Not Warranted for Listing as Endangered or Threatened Species * | 12-Month Petition Findings | 86 FR 53933-53937
* Batched 12-month findings may include findings regarding listing and delisting petitions. The total number of 12-month findings reported in this assessment of preclusion and expeditious progress pertains to listing petitions only.

Table 2—Domestic and Foreign Listing Actions (Proposed and Final Listings and Uplistings) Funded and Initiated in Previous FYs and in FY 2021 That Are Not Yet Complete as of September 30, 2021
Species | Action
“Ouachita” fanshell | Proposed listing determination.
alligator snapping turtle * | 12-month finding.
blanco blind salamander | 12-month finding.
bog buckmoth * | Proposed listing determination.
bracted twistflower * | Proposed listing determination or not-warranted finding.
bushy whitlow-wort | 12-month finding.
cactus ferruginous pygmy-owl * | 12-month finding.
Chowanoke crayfish | 12-month finding.
Cooper's cave amphipod | 12-month finding.
Cumberland moccasinshell | 12-month finding.
Egyptian tortoise * | 12-month finding.
Georgia bully (swamp buckhorn) | 12-month finding.
glowing indian-paintbrush | 12-month finding.
Great Basin silverspot | 12-month finding.
green floater | 12-month finding.
Key ring-necked snake | 12-month finding.
Lassics lupine | 12-month finding.
longfin smelt (San Francisco Bay-Delta DPS) | Proposed listing determination or not-warranted finding.
Louisiana pigtoe | 12-month finding.
magnificent ramshorn | Proposed listing determination or not-warranted finding.
minute cave amphipod | 12-month finding.
Morrison's cave amphipod | 12-month finding.
Navasota false foxglove | 12-month finding.
oblong rocksnail | 12-month finding.
Ocmulgee skullcap | 12-month finding.
Persian sturgeon | 12-month finding.
prostrate milkweed | 12-month finding.
rim rock crowned snake | 12-month finding.
Rio Grande cooter | 12-month finding.
Russian sturgeon | 12-month finding.
Shasta salamander | 12-month finding.
Siberian sturgeon | 12-month finding.
ship sturgeon | 12-month finding.
southern elktoe | 12-month finding.
stellate sturgeon | 12-month finding.
Tennessee clubshell | 12-month finding.
Tennessee pigtoe | 12-month finding.
Texas heelsplitter | 12-month finding.
Texas kangaroo rat | 12-month finding.
Tharp's blue-star | 12-month finding.
toothless blindcat | 12-month finding.
western fanshell | 12-month finding.
western spadefoot | 12-month finding.
widemouth blindcat | 12-month finding.
* Denotes species for which a 12-month finding or proposed listing determination has published subsequent to the end of FY 2021 (after September 30, 2021).

Table 3—Completed Domestic and Foreign Recovery Actions (Proposed and Final Downlistings and Delistings) in FY 2021 as of September 30, 2021
Publication date | Title | Action(s) | Federal Register citation
10/8/2020 | Reclassification of the Red-Cockaded Woodpecker From Endangered to Threatened With a Section 4(d) Rule | Proposed Rule—Downlisting with Section 4(d) Rule | 85 FR 63474-63499
10/15/2020 | Reclassification of the American Burying Beetle From Endangered to Threatened With a Section 4(d) Rule | Final Rule—Downlisting with Section 4(d) Rule | 85 FR 65241-65261
10/21/2020 | Reclassification of Eugenia woodburyana as Threatened and Section 4(d) Rule | Proposed Rule—Downlisting with Section 4(d) Rule | 85 FR 66906-66925
11/3/2020 | Removing the Gray Wolf (Canis lupus) From the List of Endangered and Threatened Wildlife | Final Rule—Delisting and 90-Day Petition Finding | 85 FR 69778-69895
1/4/2021 | Reclassification of the Endangered June Sucker to Threatened With a Section 4(d) Rule | Final Rule—Downlisting with Section 4(d) Rule | 86 FR 192-212
1/13/2021 | Removal of the Interior Least Tern From the Federal List of Endangered and Threatened Wildlife | Final Rule—Delisting | 86 FR 2564-2581
1/15/2021 | Reclassifying Furbish's Lousewort (Pedicularis furbishiae) From Endangered to Threatened Status With a Section 4(d) Rule | Proposed Rule—Downlisting with Section 4(d) Rule | 86 FR 3976-3986
3/8/2021 | Removing Bradshaw's Lomatium (Lomatium bradshawii) From the Federal List of Endangered and Threatened Plants | Final Rule—Delisting | 86 FR 13200-13215
3/25/2021 | Reclassification of the Hawaiian Stilt From Endangered to Threatened With a Section 4(d) Rule | Proposed Rule—Downlisting with Section 4(d) Rule | 86 FR 15855-15876
4/26/2021 | Removal of the Dwarf-Flowered Heartleaf From the Federal List of Endangered and Threatened Plants | Proposed Rule—Delisting | 86 FR 21994-22005
5/5/2021 | Removing Five Species From San Clemente Island From the Federal Lists of Endangered and Threatened Wildlife and Plants | Proposed Rule—Delisting | 86 FR 23882-23913
6/16/2021 | Removal of Lepanthes eltoroensis From the Federal List of Endangered and Threatened Plants | Final Rule—Delisting | 86 FR 31972-31986
6/16/2021 | Removing the Water Howellia From the List of Endangered and Threatened Plants | Final Rule—Delisting | 86 FR 31955-31972
6/23/2021 | Reclassifying the Fender's Blue Butterfly From Endangered to Threatened With a Section 4(d) Rule | Proposed Rule—Downlisting with Section 4(d) Rule | 86 FR 32859-32878
6/24/2021 | Reclassifying Smooth Coneflower as Threatened With Section 4(d) Rule | Proposed Rule—Downlisting with Section 4(d) Rule | 86 FR 33159-33176
6/24/2021 | Removal of Chrysopsis floridana (Florida Golden Aster) From the Federal List of Endangered and Threatened Plants | Proposed Rule—Delisting | 86 FR 33177-33191
6/24/2021 | Removing the Kanab Ambersnail From the List of Endangered and Threatened Wildlife | Final Rule—Delisting | 86 FR 33137-33142
6/30/2021 | Removing Golden Paintbrush From the Federal List of Endangered and Threatened Plants | Proposed Rule—Delisting | 86 FR 34695-34711
7/7/2021 | Reclassification of the Razorback Sucker From Endangered to Threatened With a Section 4(d) Rule | Proposed Rule—Downlisting with Section 4(d) Rule | 86 FR 35708-35728
7/14/2021 | Reclassification of the Palo de Rosa From Endangered to Threatened With Section 4(d) Rule | Proposed Rule—Downlisting with Section 4(d) Rule | 86 FR 37091-37113
7/30/2021 | Removing Adiantum vivesii From the Federal List of Endangered and Threatened Plants | Proposed Rule—Delisting | 86 FR 40996-41000
8/6/2021 | Removing Trifolium Stoloniferum (Running Buffalo Clover) From the Federal List of Endangered and Threatened Plants | Final Rule—Delisting | 86 FR 43102-43117
8/16/2021 | Removing Arenaria cumberlandensis (Cumberland Sandwort) From the Federal List of Endangered and Threatened Plants | Final Rule—Delisting | 86 FR 45685-45698
9/1/2021 | Removing the Snail Darter From the List of Endangered and Threatened Wildlife | Proposed Rule—Delisting and 12-Month Petition Finding | 86 FR 48953-48968
9/30/2021 | Removal of 23 Extinct Species From the Lists of Endangered and Threatened Wildlife and Plants | Proposed Rule—Delisting | 86 FR 54298-54338
9/30/2021 | Removing the Braken Bat Cave Meshweaver From the List of Endangered and Threatened Wildlife | Proposed Rule—Delisting | 86 FR 54145-54148

Another way that we have been expeditious in making progress in adding and removing qualified species to and from the Lists is that we have made our actions as efficient and timely as possible, given the requirements of the Act and regulations and constraints relating to workload and personnel. We are continually seeking ways to streamline processes or achieve economies of scale, such as batching related actions together for publication. For example, in FY 2021, we published a single proposed delisting rule for 23 species due to extinction (86 FR 54298). Given our limited budget for implementing section 4 of the Act, these efforts also contribute toward our expeditious progress in adding and removing qualified species to and from the Lists.

Findings for Petitioned Candidate Species

For all 27 candidates, we continue to find that listing is warranted but precluded as of the date of publication of this document. However, we are working on thorough reviews of all available data regarding 6 of these species and expect to publish either proposed listing rules or 12-month not-warranted findings prior to making the next annual CNOR. In the course of preparing proposed listing rules or not-warranted petition findings, we continue to monitor new information about these species' status so that we can make prompt use of our authority under section 4(b)(7) of the Act in the case of an emergency posing a significant risk to any of these species.

Below are updated summaries for the 21 petitioned candidates for which we published findings under section 4(b)(3)(B) of the Act and did not change the LPN. We changed the LPN for one petitioned candidate species for which we published findings under 4(b)(3)(B) of the Act; an updated summary is included under Listing Priority Changes in Candidates, below. In accordance with section 4(b)(3)(C)(i), we treat any petitions for which we made warranted-but-precluded 12-month findings within the past year as having been resubmitted on the date of the warranted-but-precluded finding. We are making continued warranted-but-precluded 12-month findings on the petitions for these species.

Birds

Black-Backed Tanager

The black-backed tanager is a vibrant and distinct color-patterned bird endemic to the coastal Atlantic Forest region of southeastern Brazil. The extent of the historical range is not known; however, early records for the species are available from the coastal states of Rio de Janeiro, São Paulo, Paranà, and Santa Catarina, Brazil. The black-backed tanager is generally restricted in range and is associated with sand forest “restinga” habitat, which is a coastal component habitat of the greater Atlantic Forest complex of Brazil. Restingas are herbaceous, shrubby coastal sand-dune habitats with characteristic vegetation including shrublands and forests up to 15 meters (49 feet) tall. The species is described as a regional migrant and is one of just a few tanagers known to migrate seasonally within the coastal Atlantic Forest region of Brazil. At present, the range is approximately 316,000 km² (122,008 mi²) and decreasing. Small portions of the species' range occur in six protected areas, but enforcement of protection laws in these areas is not effective. As of 2000, the population size was estimated between 2,500 and 9,999 mature adults and decreasing; no additional population estimates have been conducted since 2000.

The primary factor affecting this species is the rapid and widespread loss and fragmentation of habitat, mainly due to urban expansion and beachfront development. Much of the species suitable habitat in Rio de Janeiro and Paraná has been destroyed. As much as 88 to 95 percent of the area historically covered by tropical forests within the Atlantic Forest biome has been lost or severely degraded as the result of human activities. Intact lowland forest, restinga, and mangrove habitat used by resident black-backed tanagers on the northern part of Santa Catarina Island (in the state of Santa Catarina) is unprotected, making the species vulnerable to extirpation on the island as development looms. Sea-level rise may alter the regional vegetation and structure. Habitat loss from sea-level rise could exacerbate the threat of habitat loss from ongoing coastal development.

The black-backed tanager is classified as vulnerable by the International Union for the Conservation of Nature (IUCN). The species is also listed as vulnerable in Brazil and protected by law. It is not included in the Appendices to the Convention on International Trade in Endangered Species of Wild Fauna and Flora (CITES), although it has infrequently been illegally sold in the pet trade.

In our August 9, 2021, CNOR (86 FR 43470), the black-backed tanager was assigned an LPN of 8. After reevaluating the available information, we have determined that no change in its LPN of 8 is warranted. The species may have some flexibility in its diet and habitat suitability, given its fairly large range. Small portions of the species' range occur in six protected areas, but these areas are not effectively protected, and loss of the species habitat is widespread and ongoing. Therefore, an LPN of 8 is valid for this species to reflect imminent threats of moderate magnitude.

Bogotá Rail

The Bogotá rail (Rallus semiplumbeus) is a medium-sized, nonmigratory bird that occurs in the eastern Andean mountain range of Colombia at elevations from 2,500-4,000 meters (8,202-13,123 feet) above sea level. The rail is found in savanna and páramo (high-elevation habitats above tree line) marshes surrounding Bogotá, Colombia, on the Ubaté-Bogotá Plateau. The Bogotá rail is secretive and difficult to observe. As of 2016, the population was estimated between 1,000 and 2,500 individuals, and the estimated extent of the resident/breeding habitat was 11,200 km² (4,324 mi²) and shrinking.

The primary threat to the rail is habitat loss and degradation of wetlands. Suitable habitat for the Bogotá rail occurs around the most populated area in Colombia with approximately 11 million people in the greater Bogotá metropolitan area. Wetlands in the area only cover approximately 3 percent of their historical extent. Although portions of the Bogotá rail's range occur in protected areas such as Chingaza National Park and Carpanta Biological Reserve, most savanna wetlands are virtually unprotected. Ongoing threats to remaining major wetlands include encroachment of human infrastructure and agriculture that causes loss of habitat and altered water levels, soil erosion, eutrophication caused by untreated effluent and agrochemicals, hunting, wildfire, and incidental spread of invasive species.

The Bogotá rail is listed as endangered by IUCN. The species is not known to be in international trade, and is not included in the Appendices to CITES.

In our August 9, 2021, CNOR (86 FR 43470), the Bogotá rail was assigned an LPN of 2. After reevaluating the threats to this species, we have determined that no change in the LPN for the species is warranted. The species' range is very small, fragmented, and rapidly contracting because of ongoing widespread habitat loss and degradation of wetlands. Therefore, an LPN of 2 remains valid for this species to reflect imminent threats of high magnitude.

Brasília Tapaculo

The Brasília tapaculo (Scytalopus novacapitalis) is a small, gray, ground-dwelling bird with limited flight ability. It is endemic to the Cerrado, the largest, most diverse, and possibly most threatened tropical savanna in the world with a mosaic of habitats composed mostly of savannas and patches of dry forests. Within the Cerrado, the Brasília tapaculo is resident in its core habitat of dense, narrow strips of swampy gallery forests that occur on the edges of rivers and streams in narrow fringes, which are usually no wider than 200 meters (m) (656 feet (ft)) and occur at elevations of approximately 800-1,000 m (2,625-3,281 ft). The range of the Brasília tapaculo is in six protected areas within the Cerrado. In the early 2000s, only 1.2 percent of the Cerrado was in protected areas; however, more recent estimates are 6.5 percent. The Brasília tapaculo is described as rare, and the population size is unknown. However, the population is assumed to be declining because of the continued decline of the gallery-forest habitat.

The primary threat to Brasília tapaculo is ongoing habitat loss and fragmentation. Land in the Cerrado is converted for intensive grazing and mechanized agriculture, mostly for soybean production. Agriculture causes direct effects to gallery forests from wetland drainage and diversion of water for irrigation, as well as burning to create space. The Brasília tapaculo's gallery-forest habitat has been less affected by clearing for agriculture than the surrounding Cerrado. However, it is unclear how much core gallery forest has been destroyed because of habitat conversion. Additionally, effects from climate change may also be negatively altering the Cerrado and reducing the amount of specialized habitat for the species.

The IUCN lists the species as endangered, and the Brazilian Red List assessed the species as endangered, because of the species' small, fragmented range and the continuing decline in area and quality of habitat. International trade is not a significant threat to the species, and the species is not included in the Appendices to CITES.

In our August 9, 2021, CNOR (86 FR 43470), we assigned the Brasília tapaculo an LPN of 2. After reevaluating the available information, we have determined that no change to an LPN is warranted. The species only occurs in a handful of small, protected areas, and is reported as rare. Habitat conversion is ongoing. Therefore, an LPN of 2 remains valid for this species to reflect imminent threats of high magnitude.

Chatham Oystercatcher

Chatham oystercatcher (Haematopus chathamensis) is the rarest oystercatcher in the world. The population is approximately 300 individuals, and the bird breeds along the coastline of four islands in the Chatham Island group: Chatham, Pitt, South East, and Mangere. Chatham and Pitt Islands are inhabited by humans, while South East and Mangere are uninhabited nature reserves. There was one report of individuals on Star Keys, east of Pitt Island, but this observation was unconfirmed. Isolated pairs may breed on other smaller islands in the group.

Predation of eggs and chicks (and to a lesser extent, predation of adults) is likely the main impediment to Chatham oystercatcher population growth. Mangere and South East Islands are free of all mammalian predators; nonnative mammalian predators inhabit Chatham and Pitt Islands. Feral cats are the most common predator of oystercatcher eggs. Nest destruction by farm animals (sheep and cattle) and humans has been noted on beaches. Additionally, nonnative Marram grass (Ammophila arenaria) has altered the sand dunes and leaves few open nesting sites. Consequently, the Chatham oystercatcher is forced to nest closer to shore where nests are vulnerable to high tides and storm surges. Up to 50 percent of eggs have been lost because of storms or high tides. Projected rise in sea levels associated with climate change will likely increase storm frequency and severity, putting at risk the majority of shorelines that the Chatham oystercatcher relies on for nesting habitat.

The species has experienced a three-fold increase in its population since the first reliable census was conducted in 1987. Most of this increase occurred during a period of intensive management, especially predator control, from 1998 through 2004. The Chatham Island Oystercatcher Recovery Plan guides conservation actions for the species. The New Zealand Department of Conservation (NZDOC) lists the Chatham oystercatcher as nationally critical, and it is protected under New Zealand's Wildlife Act. It is classified as endangered on the IUCN Red List, and the species is not included in the Appendices to CITES and not known to be in international trade.

In our August 9, 2021, CNOR (86 FR 43470), the Chatham oystercatcher was assigned an LPN of 8. After reevaluating the available information, we have determined that no change in the LPN is warranted. Although the population appears to have stabilized, it remains very small (approximately 300 individuals), and occupied breeding habitat is also small (fewer than 800 hectares (1,977 acres)). Active management has been instrumental in maintaining stable population levels, but the species continues to face threats to its nests and habitat. Therefore, an LPN of 8 is valid for this species to reflect imminent threats of moderate magnitude.

Gizo White-Eye

The Gizo white-eye (Zosterops luteirostris) is a passerine (perching) bird described as “warbler-like.” It is endemic to the small island of Ghizo in the Solomon Islands in the South Pacific Ocean, east of Papua New Guinea. Population size of the Gizo white-eye is approximately 250 and 999 mature individuals in an estimated area of 35 square kilometers (km ²) (14 square miles (mi ²)). Within this area, the Gizo white-eye is found primarily in old-growth forest patches that account for approximately 1 km ² (0.39 mi ²) of Ghizo Island. While the species has been observed in a variety of habitat types, it is unknown whether sustainable populations can exist outside of forested habitats.

Habitat loss is the primary threat to the species. The loss of old-growth forested areas and less suitable secondary-growth forests is because of logging, conversion to agricultural areas, and local resource extraction for firewood. The dense human population and prolific human growth of the Solomon Islands is contributing to the loss of habitat on Ghizo Island, mainly in the form of temporary housing. Additionally, natural events like a 2007 tsunami degraded forested areas that were found less likely to support the species even 5 years later in 2012. Sea-level rise and an increase in storms could result in coastal flooding and erosion, saltwater intrusion, and damage to inland habitats.

The IUCN Red List classifies this species as endangered. It is not included in the Appendices to CITES, and this species is not known to be in international trade.

In our August 9, 2021, CNOR (86 FR 43470), the Gizo white-eye was assigned an LPN of 2. After reevaluating the available information, we find that no change in the LPN is warranted. The species has a small population size and suitable habitat is declining. Therefore, an LPN of 2 remains valid for this species to reflect imminent threats of high magnitude.

Helmeted Woodpecker

We are updating the candidate list to reflect a change in the scientific name for helmeted woodpecker (Celeus galeatus). The genus has been reclassified to Celeus (BLI 2021, unpaginated; ITIS 2021, unpaginated; Cornell Lab 2021, unpaginated).

The helmeted woodpecker is a small, nonmigratory woodpecker native to regions of southern Brazil, eastern Paraguay, and northeastern Argentina. It is one of the rarest woodpeckers in the Americas. Helmeted woodpeckers prefer mature (old-growth) trees in tropical and subtropical semi-deciduous forests as well as in mixed deciduous coniferous forests in the southern Atlantic Forest up to elevations of 1,000 m (3,280 ft). The species occurs in subpopulations in suitable habitat within its range, and the total population is estimated to be between 700 and 21,000 mature individuals. However, a precautionary best estimate is around 3,600 mature individuals.

The primary threat to the species is habitat loss, degradation, and fragmentation, which includes loss of nesting cavities. The Atlantic Forest biome has lost 88 to 95 percent of its tropical forests because of human activities. Currently, less than 1 percent of the remaining Atlantic Forest is primary forest preferred by the helmeted woodpecker. The species occurs in 17 protected areas throughout its range, although selective logging and other activities degrade the habitat. Rates of deforestation in the helmeted woodpecker's range may decrease in certain years, but habitat degradation continues and the population is assumed to be declining.

The helmeted woodpecker is listed as endangered in Brazil and as vulnerable by the IUCN. The species is not included in the Appendices to CITES and not known to be in international trade.

In our August 9, 2021, CNOR (86 FR 43470), we assigned the helmeted woodpecker an LPN of 8. After reevaluating the available information, we find that no change in the LPN for the species is warranted. The species is rare, and although the species may have a wider distribution, loss of primary Atlantic Forest habitat is ongoing. Therefore, an LPN of 8 remains valid to reflect imminent threats of moderate magnitude.

Lord Howe Island Pied Currawong

The Lord Howe Island pied currawong (Strepera graculina crissalis) is a fairly large, crow-like bird that is endemic to Lord Howe Island, New South Wales, Australia. The Lord Howe Island pied currawong occurs throughout the island but is most numerous in mountainous regions, breeds in rainforests and palm forests, and descends to foraging areas in lowlands. The best current population estimate is approximately 200 individuals. Most, if not all, available habitat on Lord Howe Island is occupied based on the estimate of 200 individuals and estimates of the extent of available breeding habitat.

The primary threats to the subspecies are the introduction of nonnative rodents to this island ecosystem and the effects of climate change. The Lord Howe Island pied currawong has persisted among invasive black rats. However, because the currawong often preys on small rodents, it may be subject to non-target poisoning during ongoing rat-baiting programs. A study is underway focusing on how the species has been affected by the poison-bait applications. The effects of climate change may affect the cloud layer on the island's mountaintops, resulting in drying of the forest where the subspecies gets about half of its food, and creating a food shortage. The small, isolated population of currawongs is at risk from loss of genetic diversity and stochastic (random) environmental events. However, this population may have always been small and may not have the capacity for additional growth.

The Australian Government owns and manages all the land on Lord Howe Island. Approximately 75 percent of the island, plus all outlying islets and rocks within the Lord Howe Island group, is protected under the Permanent Park Preserve. The Lord Howe Island Biodiversity Management Plan is the formal recovery plan for threatened species and communities of the Lord Howe Island Group. Following the removal of poison-bait traps in 2020, monitoring is underway across the island to see if it has become rat-free. The New South Wales Threatened Species Conservation Act of 1995 lists the Lord Howe Island pied currawong as vulnerable, as does Australia's Environment Protection and Biodiversity Conservation Act List of Threatened Fauna. The subspecies is not listed on the IUCN Red List, is not included in the Appendices to CITES, and is not known to be in international trade.

In our August 9, 2021, CNOR (86 FR 43470), the Lord Howe Island pied currawong was assigned an LPN of 6. After reevaluating the threats to the Lord Howe Island pied currawong, we have determined that no change in the LPN for the subspecies is warranted. The subspecies' small population size faces risks from non-target poisoning from rodent control. Significant conservation efforts have been implemented. Therefore, based on the best information available, an LPN of 6 remains valid to reflect non-imminent threats of high magnitude.

Okinawa Woodpecker

The Okinawa woodpecker (Dendrocopos noguchii; syn. Sapheopipo noguchii) is a relatively large woodpecker found on Okinawa Island, Japan, and one of the world's rarest woodpeckers. The species prefers subtropical evergreen broadleaf forests that are undisturbed and mature. Okinawa woodpecker's main breeding areas occur in the forested areas in the northern part of the island, and in well-forested coastal areas of Yambaru, an area of approximately 300 km², or 116 mi². Most of the older forests that support the species are within the Jungle Warfare Training Center (formerly known as the Northern Training Area or Camp Gonsalves), part of the U.S. Marine Corps installation on Okinawa Island.

The primary threat to the Okinawa woodpecker is deforestation in the Yambaru region. As of the mid 1990s, only 40 km² (15 mi²) of suitable habitat was available for the Okinawa woodpecker, with most of it part of the Jungle Warfare Training Center that is relatively undisturbed. This situation makes it vulnerable to extinction from disease and natural disasters such as typhoons. Additionally, the species is vulnerable to introduced predators such as feral dogs and cats, Javan mongoose (Herpestes javanicus), and Japanese weasel (Mustela itatsi).

The Japanese Government established Yambaru National Park in 2016. In July 2021, the United Nations Educational, Scientific and Cultural Organization (UNESCO) added Amami-Oshima Island, Tokunoshima Island, the northern part of the main Okinawa Island (which contains Yambaru National Park), and Iriomote Island to the list of natural World Heritage sites. The species is listed as critically endangered in the Red List of Threatened Birds in Japan and protected from acquisition and transfer under Japan's wildlife-protection system. Okinawa woodpecker is not included in the Appendices to CITES, and is not known to be in international trade.

In our August 9, 2021, CNOR (86 FR 43470), the Okinawa woodpecker was assigned an LPN of 2. After reevaluating the available information, we find that no change in the LPN is warranted. Threats to the species are high in magnitude due to the scarcity of its old-growth habitat. The population is very small and is likely declining. Although new protected areas have been established that will likely benefit the Okinawa woodpecker, it is not yet clear that these areas will be fully protected from logging and other anthropogenic development and nonnative predators. Even though threats from logging have been reduced, it will take many years for secondary and clear-cut forest habitat to mature such that it is suitable for the woodpecker. The threats to the species are ongoing, imminent, and high in magnitude due to its restricted range, small population size, past habitat loss, and endemism. Therefore, an LPN of 2 remains valid for this species to reflect imminent threats of high magnitude.

Orange-Fronted Parakeet

The orange-fronted parakeet (Cyanoramphus malherbi) is the rarest parakeet in New Zealand, and the three remaining naturally occurring colonies are restricted to a small area on South Island. Beginning in 2005, captive-bred orange-fronted parakeets were translocated to four predator-free islands and bred successfully. The population size of the orange-fronted parakeet is approximately 350 individuals, with the offshore population around 100 individuals and the mainland population around 250 individuals. In 2019, the orange-fronted parakeet had one of its best breeding seasons in decades, with more than three times as many nests compared to previous years, and produced at least 150 wild-born chicks, almost doubling the population. We do not have information on the current size of the population after the 2019 breeding season.

The primary threats affecting the species on the mainland are predation by nonnative mammals, as well as habitat destruction because of deforestation. Habitat loss and degradation has historically affected large areas of native forest on the mainland. The orange-fronted parakeet nests in beech forests (Nothofagus spp.), and removal of mature trees with nest cavities has increased competition with other native parakeets for nest sites.

The New Zealand Department of Conservation (NZDOC) initiated a captive-breeding program and established small, self-sustaining populations on four predator-free islands. The species was uplisted from nationally endangered to nationally critical by the NZDOC in 2016; it is protected under New Zealand's Wildlife Act, and is listed as critically endangered on the IUCN's Red List. The orange-fronted parakeet is included in Appendix II to CITES.

In our August 9, 2021, CNOR (86 FR 43470), the orange-fronted parakeet was assigned an LPN of 8. After reevaluating the threats to the orange-fronted parakeet, we have determined that no change in LPN for the species is warranted. The current population is small, and the species' distribution is limited. Nonnative predators and loss of suitable habitat continue to threaten the species. The NZDOC is actively aiding the recovery of the species. Therefore, an LPN of 8 remains valid to reflect imminent threats of moderate magnitude.

Sira Curassow

The Sira curassow (Pauxi keopckeae) is a large game bird that is similar in size and coloration to the southern helmeted curassow, but their ranges are separated by approximately 2,000 kilometers (1,243 miles), and the Sira curassow has a shorter and rounder pale-blue casque that is flattened against the head. The Sira curassow is known only from the Cerros del Sira region of Peru, which is an isolated mountain outcrop of the Peruvian Andes. The Sira curassow inhabits cloud-forest habitat (a type of rainforest that occurs on high mountains in the tropics) at elevations of at least 1,100-1,450 m (3,609-4,757 ft). Most of the species' range is in El Sira Communal Reserve and is limited and declining. The population is estimated at fewer than 250 adults.

Primary threats to the species are hunting by local indigenous communities and habitat loss and degradation because of subsistence agriculture, forest clearing, road building, and associated rural development. Although the Sira curassow is legally protected in a large portion of its range within the El Sira Communal Reserve, illegal hunting and deforestation continues.

The species is classified as critically endangered on the IUCN Red List. Sira curassow is not known to be in international trade, and is not included in the Appendices to CITES. The Sira curassow is also not included in the European Union Wildlife Trade Regulations.

In our August 9, 2021, CNOR (86 FR 43470), the Sira curassow was assigned an LPN of 2. After reevaluating the threats to the species, we have determined that no change in the LPN is warranted. It faces threats that are high in magnitude based on its very small estimated population and limited range. The protected area where the species occurs continues to face pressure from hunting and habitat loss, and the very small population and its habitat will likely continue to decline in the future. Therefore, an LPN of 2 remains valid to reflect imminent threats of high magnitude.

Southern Helmeted Curassow

The southern helmeted curassow (Pauxi unicornis), also known as the helmeted or horned curassow, is a game bird with a distinctive pale-blue, horn-like appendage (called a “casque”) above its bill. The southern helmeted curassow only occurs in central Bolivia on the eastern slope of the Andes, where it has been found in the neighboring Amboró and Carrasco National Parks. The southern helmeted curassow strongly resembles the Sira curassow (Pauxi koepckeae) from Peru, although their ranges are separated by more than 1,000 kilometers (621 miles). Casque shape and size are a good distinguishing feature. The southern helmeted curassow inhabits dense, humid, foothill and lower montane forest and adjacent evergreen forest at altitudes between 450 and 1,500 m (1,476 and 4,921 ft). The estimated extent of the resident/breeding area is 10,700 km² (4,131 mi²) and declining. Population size is estimated to be between 1,000 and 4,999 mature individuals, the equivalent of 1,500 to 7,500 individuals.

Primary threats to the species are hunting and habitat loss. Although the national parks have been important for the preservation of the species, financial and human resources needed to protect park resources are limited. Within the parks, there are human settlements and ongoing encroachment, including illegal logging operations and forest clearing for farming. Rural development and road building limit the species' ability to disperse. Range reductions due to effects from climate change are also predicted for the southern helmeted curassow, when warming temperatures may cause the species to shift its distribution upslope and outside of protected national parks.

The southern helmeted curassow is classified as critically endangered on the IUCN Red List. Trade has not been noted internationally, and the species is not included in the Appendices to CITES. The species is listed on Annex D of the European Union Wildlife Trade Regulations; species listed on Annex D require the importer to complete an import-notification form.

In our August 9, 2021, CNOR (86 FR 43470), the southern helmeted curassow was assigned an LPN of 2. After reevaluating the threats to the species, we have determined that no change in the LPN is warranted. The species faces threats that are high in magnitude based on its small, limited range. The few protected areas where it exists continue to face pressure from hunting and from habitat loss and destruction, and the population will likely continue to decline. Therefore, an LPN of 2 remains valid for this species to reflect imminent threats of high magnitude.

Takahē

Takahē (Porphyrio hochstetteri) is the largest extant rail in the world. The species is flightless, native to New Zealand's South Island, and present on North Island and some offshore islands because of reintroduction and conservation efforts. The takahē was once widespread in the forest and grassland ecosystems of the South Island of New Zealand. Since the mid-1990s, the species was present in a relatively small area of the Murchison and Stuart Mountains, inhabiting approximately 650 km² (251 mi²). New Zealand classified 530 km² (205 mi²) as a “special area” with restricted access. The population of takahē remains very small; it is estimated to be 50 to 250 adults and decreasing.

Primary threats to the takahē include hunting, competition from nonnative species, and predators such as weasels and the weka (Gallirallus australis hectori), a flightless woodhen that is endemic to New Zealand. Currently, weasel predation appears to be the most significant of these threats. Weasel trapping is ongoing and is an effective tool to increase takahē's breeding success; however, the threat of weasel predation continues.

New Zealand considers the takahē a nationally vulnerable species, and it is protected under New Zealand's Wildlife Act. The takahē is listed as endangered on the IUCN Red List. The species is not known to be in international trade, and the species is not included in the Appendices to CITES. The NZDOC is actively managing populations through conservation efforts that include captive-rearing and reintroductions, predator control, management of grassland habitats, and research. Population numbers appear to be slowly increasing due to intensive management of these populations

In our August 9, 2021, CNOR (86 FR 43470), the takahē was assigned an LPN of 8. After reevaluating the threats to the takahē, we have determined that no change in LPN for the species is warranted. The takahē has a small population size and limited range. The NZDOC is actively managing threats to aid in the recovery of the species. Therefore, the LPN remains at 8 to reflect imminent threats of moderate magnitude.

Yellow-Browed Toucanet

The yellow-browed toucanet (Aulacorhynchus huallagae) is a rare bird of the toucan family that occurs in the Andes Mountains of north-central Peru. The species currently occupies three small locations in humid montane forests on the eastern slope of the Andes in north-central Peru at elevations of 2,000-2,600 m (6,562-8,530 ft) above sea level. The population status is not well known because of the inaccessibility of its habitat, but is estimated at 600 to 1,500 mature individuals.

Deforestation for livestock, agriculture, timber, and gold mining are the primary threat. Habitat loss and destruction from deforestation for agriculture have been widespread in the region. Population declines resulting from habitat loss are assumed. Given the inherent threats to small populations (e.g., loss of genetic diversity via genetic drift, stochastic environmental events), continued habitat loss and degradation will exacerbate the risk to the species.

Part of the species' range is within protected national parks, with Río Abiseo National Park a target for World Wide Fund for Nature's top Andean conservation priorities. The yellow-browed toucanet is classified as endangered on the IUCN Red List. The species is not included in the Appendices to CITES and is not known to be in international trade.

In our August 9, 2021, CNOR (86 FR 43470), the yellow-browed toucanet was assigned an LPN of 2. After reevaluating the available information, we find that no change in the LPN is warranted. The estimated population is small within a restricted range. The magnitude of threats to the habitat remains high, and its population is likely declining. Therefore, an LPN of 2 remains valid for this species to reflect imminent threats of high magnitude.

Fish

Rio Grande Cutthroat Trout

Rio Grande cutthroat trout (Oncorhynchus clarkii virginalis) is one of 14 subspecies of cutthroat trout found in the western United States. Populations of this subspecies are in New Mexico and Colorado in drainages of the Rio Grande, Pecos, and Canadian Rivers. Although once widely distributed in connected stream networks, Rio Grande cutthroat trout populations now occupy approximately 11 percent of historical habitat, and the populations are fragmented and isolated from one another. The majority of populations occur in high-elevation streams. We were petitioned to list Rio Grande cutthroat trout as an endangered or threatened species under the Act in 1998. On May 14, 2008, we found that listing the subspecies was warranted but precluded by higher priority actions, and the entity was added to our list of candidate species (73 FR 27900). After completing a species status assessment (SSA), we published a 12-month petition finding, which determined that the Rio Grande cutthroat trout was not warranted for listing as endangered or threatened under the Act (79 FR 59140; October 1, 2014).

On July 29, 2016, the Center for Biological Diversity (CBD) and Taylor McKinnon filed a complaint in the Colorado District Court challenging the merits of our October 1, 2014, “not warranted” finding (79 FR 59140); see CBD, et al. v. Bernhardt, et al., No. 1:16-cv-01932-MSK-STV (D. Colo.). On September 26, 2019, the court partially vacated and remanded the October 1, 2014, 12-month finding; We have added the Rio Grande cutthroat trout to our workplan for FY 2025. Because the magnitude of threats is moderate to low and those threats are imminent, we assigned an LPN of 9 to the Rio Grande cutthroat trout.

Clams

Colorado Delta Clam

The Colorado Delta clam (Mulinia modesta) is a relatively large, light-colored estuarine bivalve that was once very abundant at the head of the Gulf of California in the Colorado River estuary. The species inhabits shallow, muddy waters of the coast and requires adequate substrate and water salinity to successfully breed and develop. The Colorado Delta clam currently occurs in the upper, northern, and central portions of the Gulf of California, and is capable of living in salinities ranging from brackish (mixture of salt and fresh water) to full seawater. The extent of the species is relatively large, although densities are significantly lower than they were historically.

The historical population of the Colorado Delta clam in the upper Gulf was estimated to be at least 5 billion individuals, accounting for 84-95 percent of all bivalve mollusks in the upper Gulf. However, after decades of dam building on the Colorado River and its tributaries, the Colorado Delta clam is estimated to be 6 percent as abundant in the upper Gulf as it was before dam construction began. While the clam has declined dramatically in the upper Gulf where it was historically most abundant, we are not aware of total population estimates covering the entire species' range.

The decline of the clam in the upper Gulf of California region is likely a consequence of dam building. From the 1990s until 2017, 0 percent of the Colorado River's flow reached the Gulf. Since 2017, 2 percent of the river's flow has reached the Gulf of California. Environmental changes to the estuary associated with reduced river flow include increased salinity, decreased sediment load, decreased input of naturally derived nutrients, and elimination of the spring/summer flood. Low flows are expected to continue and worsen as climate-change-induced drought reduces river flow.

A binational agreement with Mexico requires the United States to invest in water conservation, habitat restoration, and scientific monitoring projects in the delta and release approximately 2 percent of natural flow through 2026. Portions of the species' range occur within two protected areas that are part of the UNESCO Biosphere Reserve Program and are owned and managed by the Mexican Government.

In our August 9, 2021, CNOR (86 FR 43470), the Colorado Delta clam was assigned an LPN of 8. After reevaluating the threats to this species, we have determined that no change in its LPN of 8 is warranted. The threat of habitat loss and degradation in the Colorado delta region is ongoing. However, this threat appears to be affecting the clam in the upper Gulf of California and not throughout the remainder of its range. Therefore, an LPN of 8 remains valid to reflect imminent threats of moderate magnitude.

Insects

Fluminense Swallowtail

The Fluminense swallowtail (Parides ascanius) butterfly is a black, white, and red swallowtail. The species may be confused with the Harris' mimic swallowtail (Mimoides (syn. Eurytides) lysithous harrisianus), but the Harris' mimic swallowtail has a red streak on the underside of its wings. Fluminense swallowtail is endemic to sand forests (or “restingas”) of the Atlantic Forest in coastal Brazil. The species currently occupies an estimated 116 km² (45 mi²) in sparse habitat fragments across the swampy coastal forests in the State of Rio de Janeiro. Fluminense swallowtail occupies at least eight sites between which there is movement of individuals. A study at Biological Reserve of Poço das Antas estimated that the subpopulation ranged from about 10 to 50 individuals. The best available information does not provide estimates for butterfly numbers in the remaining subpopulations.

Habitat loss caused by road and building construction is the main threat affecting Fluminense swallowtail. Sea-level rise may result in further habitat loss as humans continue to develop suitable habitat further inland as they relocate to avoid coastal flooding. Eighty-eight to 95 percent of the area historically covered by tropical forests within the Atlantic Forest biome has been converted or severely degraded because of human activities. Additionally, illegal collection is likely occurring and ongoing. The species is located near urban areas and is easy to capture. The impact of illegal collection is difficult to assess, but removal of individuals from the remaining populations with decreasing habitat could contribute to local extirpations.

While several of the populations occur in protected areas (including the Poço das Antas Biological Reserve, Três Picos State Park, and Guapiaçu Ecological Reserve), only one of the subpopulations occurs within a highly protected area (Poço das Antas Biological Reserve). The majority of the remaining populations are on smaller, fragmented parcels with limited or no protections. Between 2001 and 2006, biological corridors were planned or created to connect existing protected areas to 13 privately protected forests by restoring habitat to assist the habitat connectivity for the species, but this effort has not yet been evaluated. Management plans for the Restinga National Park of Jurubatiba and Poço das Antas Biological Reserve address conservation of Fluminense swallowtail.

Fluminense swallowtail was the first invertebrate to officially be noted on the list of Brazilian animals threatened with extinction in 1973. The species is categorized by Brazil as endangered, and has been classified as vulnerable by the IUCN Red List since 1983. Fluminense swallowtail is not included in the Appendices to CITES. However, the European Commission listed the species on Annex B of the European Union Wildlife Trade Regulations; species listed on Annex B require a permit for import.

In our August 9, 2021, CNOR (86 FR 43470), Fluminense swallowtail was assigned an LPN of 2. After reevaluating the stressors to this species, we have determined that no change to the LPN is warranted. The overall number of subpopulations recorded for the species has declined from previous records of fewer than 20 colonies to approximately 8 to 12, and the species continues to decline. Despite the conservation measures in place, the species continues to face stressors (e.g., habitat loss and destruction, and illegal collection and trade). Therefore, an LPN of 2 remains valid to reflect imminent threats of high magnitude.

Hahnel's Amazonian Swallowtail

Hahnel's Amazonian swallowtail (Parides hahneli) is a large black and yellow butterfly endemic to Brazil. The species is known to occur in six locations in central Brazil in the states of Amazonas and Pará. However, the species is very rare, and there is little recent data to confirm that the species still occurs in these areas. Hahnel's Amazonian swallowtail occurs in remote regions along the tributaries of the middle and lower Amazon River basin in sandy riparian areas with dense scrub vegetation or forest. The species likely feeds on only one larval host plant species. Although the host plant species has not been identified, it is suspected to be in the genus Aristolochia. Population size and trends are not known for this species.

Loss of habitat from deforestation is the primary threat to the species. The States of Pará and Amazonas experienced high rates of deforestation over the past 30 years, with deforestation continuing within the range of the species. The butterfly has been collected for commercial trade and may also be reared for trade. Locations in the wild have deliberately been kept secret given the high value of this butterfly to collectors.

Hahnel's Amazonian swallowtail is listed as endangered on the State of Pará's list of threatened species, but it is not listed by the State of Amazonas or by Brazil. The species is classified as data deficient on the IUCN Red List, and is not included in the Appendices to CITES. The species is listed on Annex B of the European Union Wildlife Trade Regulations; therefore, a permit is required for import of the species.

In our August 9, 2021, CNOR (86 FR 43470), Hahnel's Amazonian swallowtail was assigned an LPN of 2. After reevaluating the threats to Hahnel's Amazonian swallowtail, we have determined that no change in the LPN is warranted. The species has a small endemic population, and its highly specialized habitat is limited and habitat alteration and destruction are ongoing in Pará and Amazonas and is likely to continue. Potential impacts from collection are unknown but, in combination with habitat loss, could contribute to local extirpations. Therefore, an LPN of 2 remains valid to reflect imminent threats of high magnitude.

Harris' Mimic Swallowtail

Harris' mimic swallowtail (Mimoides (syn. Eurytides) lysithous harrisianus) is a medium-sized black, white, and red swallowtail. This butterfly is a mimic (looks like other species); lower portions of the hindwing have large red spots that mimic the rose-red markings on the Fluminense swallowtail, a toxic butterfly that most predators avoid. Harris' mimic swallowtail occupies coastal habitats of the Atlantic forest, specifically restinga habitats (sandy, coastal forest) with lowland swamps and sandy flats above the tidal margins of the coast. Harris' mimic swallowtail historically occurred in southern Espirito Santo State and along the coast of the State of Rio de Janeiro, Brazil. Records indicated that the butterfly occupied five sites in the State of Rio de Janeiro. Two areas are within protected areas, and the other sites appear to be under municipal conservation with uncertain protected status. The best-studied site at Barra de São João has maintained a stable and viable size for nearly two decades, but since 2004 limited information exists on its status. The best available data do not indicate recent population numbers in any of the other colonies or locations.

Habitat destruction has been the main threat and is ongoing. Eighty-eight to 95 percent of the area historically covered by tropical forests within the Atlantic Forest biome has been converted or severely degraded as the result of human activities. Remaining tracts of the subspecies' habitat are severely fragmented, and coastal Atlantic Forest ecoregions are at risk from proposed development, climate change, wildfire, and sea-level rise. Additionally, specimens of Harris' mimic swallowtail are routinely advertised online, ranging from $1,000 to $2,200 (U.S. dollars), indicating that illegal collection and trade may be occurring. The effect of illegal collection to Harris' mimic swallowtail likely contributes to population decline and local extirpations.

Harris' mimic swallowtail benefits from the Poço das Antas Biological Reserve, which was established to protect the golden lion tamarin (Leontopithecus rosalia). The Reserve's purpose is solely for protection, research, and environmental education and its management plan has an objective to identify possible occurrences of the butterfly. Harris' mimic swallowtail is categorized on the list of Brazilian fauna threatened with extinction. The subspecies is not currently on the IUCN Red list, although it was identified as a threatened or extinct subspecies in the family Papilionidae in the 1994 IUCN Red List. The subspecies is not included in the Appendices to CITES, and is not regulated on the annexes to European Union Wildlife Trade Regulations.

In our August 9, 2021, CNOR (86 FR 43470), Harris' mimic swallowtail was assigned an LPN of 3. Threats are high in magnitude and imminent because the butterfly only occurs in a few small, fragmented colonies, habitat loss and degradation is ongoing, and the potential for catastrophic events such as fire remains. Additionally, although the subspecies is protected by Brazilian law and several of the colonies are located within protected areas, the high price advertised online for specimens indicates demand for the subspecies, likely from illegal collection. Despite the conservation measures in place, the species continues to face stressors (e.g., habitat loss and destruction, and illegal collection and trade). Therefore, an LPN of 3 remains valid to reflect imminent threats of high magnitude.

Jamaican Kite Swallowtail

The Jamaican kite swallowtail (Protographium (syn. Eurytides) marcellinus) is a small, blue-green and black butterfly endemic to Jamaica. This butterfly is regarded as Jamaica's most endangered butterfly. The Jamaican kite swallowtail is restricted to limestone forests; breeding populations only occur in rare, dense stands of its only known larval host plant, black lancewood (Oxandra lanceolata). Five known sites have supported colonies of the Jamaican kite swallowtail. Two of the sites may be extirpated, the status of one site is uncertain, and two sites are viable with strong numbers in some years. There is no known estimate of population size, and numbers of mature adults are low in most years; however, occasionally there are strong flight seasons in which adult densities are relatively higher.

The primary threat to the Jamaican kite swallowtail is habitat loss and fragmentation. Forests were cleared for agriculture and timber extraction, and more recently for sapling cutting for yam sticks, fish pots, or charcoal. Additional threats include mining for limestone (used for roadbuilding) and bauxite (for aluminum production, an important economic activity), and human-caused fires from slash-and-burn agriculture and charcoal-making. Only around 8 percent of the total land area of Jamaica is natural forest with minimal human disturbance. Collection and trade of the species occurred in the past. Currently, this threat may be negligible because of heavy fines under the Jamaican Wildlife Protection Act. Predation from native predators, including spiders, the Jamaican tody (Todus todus), and praying mantis (Mantis religiosa), may be adversely affecting the Jamaican kite swallowtail, especially in the smaller subpopulations. In years with large populations of spiders, very few swallowtail larvae survive. Additionally, this species may be at greater risk of extinction due to natural events such as hurricanes and effects from climate change.

Since 2001, the Jamaican kite swallowtail has been protected under the Jamaican Wildlife Protection Act. The species is also included in their National Strategy and Action Plan on Biological Diversity. The two strongest subpopulations occur in protected areas, although habitat destruction within these areas continues. Since 1985, the Jamaican kite swallowtail has been categorized on IUCN's Red List as vulnerable, but the assessment is marked as needs updating. This species is not included in the Appendices to CITES or the European Union Wildlife Trade Regulations.

In our August 9, 2021, CNOR (86 FR 43470), the Jamaican kite swallowtail was assigned an LPN of 2. After reevaluating the factors affecting the Jamaican kite swallowtail, we have determined that no change in LPN is warranted. Only five small subpopulations of the species are known, and as few as two of these subpopulations may presently be viable. Although Jamaica has taken regulatory steps to preserve native swallowtail habitat, plans for conservation of vital areas for the butterfly have not been implemented. Therefore, an LPN of 2 remains valid to reflect imminent threats of high magnitude.

Kaiser-i-Hind Swallowtail

Kaiser-i-Hind swallowtail (Teinopalpus imperialis) is a large, ornate and colorful swallowtail butterfly that displays sexual dimorphism (sexes differ in size and coloration). The species is native to the Himalayan regions of Bhutan, China, India, Laos, Myanmar, Nepal, Thailand, and Vietnam. Although the Kaiser-i-Hind butterfly has a large range and was likely more widespread historically, it is currently restricted to higher elevations above sea level (1,500 to 3,050 m (4,921 to 10,000 ft)) in the mountain foothills and other mountainous regions. The species prefers undisturbed (primary) broad-leaved-evergreen forests or montane deciduous forests. Specific details on locations or population status are not readily available, and despite widespread distribution, populations are described as being local and never abundant.

Habitat destruction negatively affects this species. In China and India, the Kaiser-i-Hind swallowtail populations are affected by habitat modification and destruction due to commercial and illegal logging, as well as clearing for agriculture in India. In Nepal, the species is affected by habitat disturbance and destruction resulting from mining, wood collection for use as fuel, deforestation, collection of fodders and fiber plants, forest fires, invasion of bamboo species into the oak forests, agriculture, and grazing animals. In Vietnam, the forest habitat is reportedly declining. Comprehensive information on the rate of degradation of Himalayan forests containing the Kaiser-i-Hind swallowtail is not available, but ongoing habitat loss is reported consistently as one of the primary threats to the species. Collection for commercial trade is also regarded as a threat to the species. The Kaiser-i-Hind swallowtail is highly valued and has been collected and traded despite various prohibitions. Although it is difficult to assess the potential impacts from collection, the removal of individuals from the wild in combination with other stressors could contribute to local extirpations.

In China, the species is protected by the Law of the People's Republic of China on the Protection of Wildlife. In India, the species is listed on Schedule II of the Indian Wildlife Protection Act. In Thailand, all butterflies in the genus Teinopalpus, including the Kaiser-i-Hind swallowtail, are listed under Thailand's Wild Animal Reservation and Protection Act. In Vietnam, the species is listed as “Vulnerable” in the 2007 Vietnam Red Data Book and is reported to be the most valuable of all butterflies in Vietnam. In 2006, the species was listed on Vietnam's Schedule IIB of Decree No. 32 on management of endangered, precious, and rare forest plants and animals. Since 1996, the Kaiser-i-Hind swallowtail has been categorized on the IUCN Red List as lower risk/near threatened, but IUCN indicates that this assessment needs updating. The Kaiser-i-Hind swallowtail has been included in CITES Appendix II since 1987. Additionally, the Kaiser-i-Hind swallowtail is listed on Annex B of the European Union Wildlife Trade Regulations; species listed on Annex B require an import permit.

In our August 9, 2021, CNOR (86 FR 43470), the Kaiser-i-Hind swallowtail was assigned an LPN of 8. After reevaluating the threats to this species, we have determined that no change in its LPN of 8 is warranted. The species has a wide distribution, although populations are local and never abundant. Threats from habitat destruction and illegal collection are moderate in magnitude due to the species' wide distribution and to various protections in place within each country. The threats are imminent due to ongoing habitat destruction and high market value for specimens. Therefore, an LPN of 8 remains valid to reflect imminent threats of moderate magnitude.

Monarch Butterfly

The petition that the Service received in 2014 was for listing a subspecies of the monarch butterfly (Danaus plexippus plexippus). After careful examination of the literature and consultation with experts, there is no clearly agreed-upon definition of potential subspecies of Danaus plexippus or where the geographic borders between these subspecies might exist. In our December 17, 2020, 12-month finding (85 FR 81813), we determined that the monarch butterfly (Danaus plexippus) warranted listing as an endangered or threatened species under the Act, but that listing was precluded by higher priority listing actions.

Adults of the monarch butterfly are large and conspicuous, with bright orange wings surrounded by a black border and covered with black veins. Monarch butterflies in eastern and western North America represent the ancestral origin for the species worldwide. They exhibit long-distance migration and overwinter as adults at forested locations in Mexico and California. These overwintering sites provide protection from the elements and moderate temperatures, as well as nectar and clean water sources located nearby. Adult monarch butterflies feed on nectar from a wide variety of flowers. Reproduction is dependent on the presence of milkweed, the sole food source for larvae. Monarch butterflies are found in 90 countries, islands, or island groups. Monarch butterflies have become naturalized at most of these locations outside of North America since 1840. The populations outside of eastern and western North America (including southern Florida) do not exhibit long-distance migratory behavior.

The primary threats to the monarch's biological status include loss and degradation of habitat from conversion of grasslands to agriculture, widespread use of herbicides, logging/thinning at overwintering sites in Mexico, senescence and incompatible management of overwintering sites in California, urban development, drought, exposure to insecticides, and effects of climate change. Conservation efforts are addressing some of the threats from loss of milkweed and nectar resources across eastern and western North America and management at overwintering sites in California; however, these efforts and the existing regulatory mechanisms are not sufficient to protect the species from all of the threats.

The North American migratory populations are the largest relative to the other rangewide populations, accounting for more than 90 percent of the worldwide number of monarch butterflies. Based on the past annual censuses, the eastern and western North American migratory populations have been generally declining over the last 20 years. The western North American population has a much higher risk of extinction due to current threats than the eastern North American population. At the current and projected population numbers, both the eastern and western populations become more vulnerable to catastrophic events (for example, extreme storms at the overwintering habitat). Also, under different climate-change scenarios, the number of days and the area in which monarch butterflies will be exposed to unsuitably high temperatures within their migration and breeding habitats will increase markedly. We know little about population sizes or trends of most of the populations outside of the eastern and western North American populations (except for Australia, which has an estimate of just over 1 million monarch butterflies). However, the potential loss of the North American migratory populations from these identified threats would substantially reduce the species' resiliency, representation, and redundancy. Because the magnitude of threats is moderate to low and those threats are imminent, we assigned an LPN of 8 to the monarch butterfly. This LPN also reflects that we are evaluating the monarch butterfly at the species level.

Listing Priority Changes in Candidates

We reviewed the LPNs for all candidate species and are changing the LPN for the longfin smelt.

Longfin Smelt

Longfin smelt, Bay-Delta DPS—The following summary is based on our information contained in our files and the April 2, 2012, 12-month finding published in the Federal Register (77 FR 19756). In our 12-month finding, we determined that the longfin smelt San Francisco Bay-Delta distinct vertebrate population segment (Bay-Delta DPS) warranted listing as an endangered or threatened species under the Act, but that listing was precluded by higher priority listing actions. Longfin smelt measure 9 to 11 centimeters (3.5 to 4.3 inches) in length. Longfin smelt are considered pelagic and anadromous, although anadromy in longfin smelt is not fully understood and certain populations in other parts of the species' range are not anadromous and complete their entire life cycle in freshwater lakes and streams. Longfin smelt usually live for 2 years, spawn, and then die, although some individuals may spawn as 1- or 3-year-old fish before dying. In the San Francisco Bay-Delta, longfin smelt are believed to spawn primarily in freshwater in the lower reaches of the Sacramento River and San Joaquin River, in South Bay tributaries such as Alviso Creek and Coyote Creek, and in North Bay tributaries such as the Napa River and Petaluma River.

Longfin smelt numbers in the San Francisco Bay-Delta have declined significantly since the 1980s. Abundance indices derived from the Fall Midwater Trawl, Bay Study Midwater Trawl, and Bay Study Otter Trawl all show marked declines in Bay-Delta longfin smelt populations from 2002 to 2020. Longfin smelt abundance over the last decade is the lowest recorded in the 40-year history of the Fall Midwater Trawl and Bay Study monitoring surveys of the California Department of Fish and Wildlife (formerly the California Department of Fish and Game).

The primary threats to the Bay-Delta DPS of longfin smelt are reduced freshwater flows, competition from introduced species, climate change, and potential contaminants. Freshwater flows, especially winter-spring flows, are significantly correlated with longfin smelt abundance (i.e., longfin smelt abundance is lower when winter-spring flows are lower). Reductions in food availability and disruptions of the Bay-Delta food web caused by establishment of the nonnative overbite clam (Corbula amurensis) and ammonium released into the system have also likely attributed to declines in the species' abundance within the San Francisco Bay-Delta. Even with recent upgrades to the Sacramento Regional Wastewater Treatment Plant that could reduce ammonium release (the Plant is the largest discharger of the contaminant ammonium in the Delta), the primary threats remain high in magnitude, as they pose a significant risk to the Bay-Delta DPS throughout its range. Delta outflow is the predominant driver of the Bay-Delta DPS's abundance, and the recent drought and the consecutive dry years of 2020 and 2021 have reduced freshwater flow into the estuary, which is identified as a primary threat. The establishment and proliferation of the nonnative overbite clam is also an imminent threat to the food web and the species' food source. As the species is at the southernmost portion of its range and may already be experiencing water temperatures beyond its physiological threshold, even modest increases in temperature resulting from climate change is likely an imminent threat.

In our 2020 CNOR (85 FR 73164), the longfin smelt was assigned an LPN of 6. In 2019 we revised the LPN from 3 to 6 in part because the imminence of threats was partially ameliorated by high winter-spring flows in 2017 and 2019 (84 FR 54735). Since that time, however, it appears that the observed population rebound from higher-than-average flows was both not substantial, as well as temporary, and the population is again near record lows. Recent water conditions are extremely poor as California is experiencing a significant drought, resulting in negative impacts to freshwater flows in the Estuary. It is generally accepted that freshwater flows in the Estuary are a driver of population resilience, therefore, the high magnitude threats discussed above are ongoing and likely to continue into the future, and expected to worsen with climate change. We therefore consider threats to be imminent. The magnitude of threats is high for a number of reasons. These threats include insufficient freshwater flow, the invasive species overbite clam, and climate change. After reevaluating the imminence and magnitude of extant threats to the San Francisco Bay-Delta DPS of the longfin smelt, we have determined that a change to an LPN of 3 is warranted.

Candidates in Review

The roundtail chub, magnificent ramshorn, gopher tortoise, and longfin smelt are candidates for which we have initiated the analysis regarding the threats to the species and status of the species, but the proposed listing rule or not-warranted finding for these species was not yet completed as of September 30, 2021. We have funded these actions and intend to complete our classification decision in FY 2022 according to our National Listing Workplan. A proposed listing rule for the bracted twistflower (Streptanthus bracteatus) was published on November 10, 2021 (86 FR 62668) and a 12-month not-warranted finding for the Sonoran Desert (Gopherus morafkai) tortoise was published on February 8, 2022 (87 FR 7077), subsequent to the end of FY 2021; we do not discuss these species in this document; please refer to the proposed listing rule for information on the status of and threats to the bracted twistflower and the 12-month finding for information on the status of and threats to the Sonoran Desert tortoise.

Petitions To Reclassify Species Already Listed

We previously made warranted-but-precluded findings on petitions seeking to reclassify threatened species to endangered status for four species. The taxa involved in the reclassification petitions are two populations of the grizzly bear (Ursus arctos horribilis), delta smelt (Hypomesus transpacificus), northern spotted owl (Strix occidentalis caurina), and Pariette cactus (Sclerocactus brevispinus). Because these species are already listed under the Act, they are not candidates for listing and are not included in Table 5.

This document and associated species assessment forms constitute the findings for the resubmitted petitions to reclassify the North Cascades grizzly bear population, delta smelt, northern spotted owl, and Pariette cactus. Our updated assessments for these species are provided below. We find that reclassification to endangered status for the North Cascades grizzly bear population, delta smelt, and northern spotted owl are currently warranted but precluded by work identified above (see Findings for Petitioned Candidate Species, above). One of the primary reasons that the work identified above is considered to have higher priority is that these species are currently listed as threatened, and therefore already receive certain protections under the Act. For the grizzly bear, delta smelt, and northern spotted owl, those protections are set forth in our regulations at 50 CFR 17.31 and, by reference, 50 CFR 17.21. It is therefore unlawful for any person, among other prohibited acts, to take (i.e., to harass, harm, pursue, hunt, shoot, wound, kill, trap, capture, or collect, or attempt to engage in such activity) a grizzly bear, delta smelt, or northern spotted owl, subject to applicable exceptions.

Other protections that currently apply to these threatened species include those under section 7(a)(2) of the Act, whereby Federal agencies must insure that any action they authorize, fund, or carry out is not likely to jeopardize the continued existence of any endangered or threatened species.

This document and associated species assessment form also constitute the finding for the resubmitted petition to reclassify the Cabinet-Yaak grizzly bear population. This document also constitutes the finding for the resubmitted petition to reclassify the Pariette cactus. For a thorough review of the Cabinet-Yaak grizzly bear population's biology and life history, please see the species' USFWS 5-Year Status Review (https://ecos.fws.gov/docs/tess/species_nonpublish/942.pdf). For a thorough review of the Pariette cactus' biology and life history, please see the species' USFWS 5-Year Status Review (https://ecos.fws.gov/docs/tess/species_nonpublish/3017.pdf). We find that reclassification from threatened status to endangered status for Cabinet-Yaak grizzly bear population and Pariette cactus is not warranted at this time.

Two Populations of Grizzly Bear

Grizzly bear (Ursus arctos horribilis), North Cascades ecosystem population—Since 1990, we have received and reviewed five petitions requesting a change in status for the North Cascades grizzly bear population (55 FR 32103, August 7, 1990; 56 FR 33892, July 24, 1991; 57 FR 14372, April 20, 1992; 58 FR 43856, August 18, 1993; 63 FR 30453, June 4, 1998). In response to these petitions, we determined that grizzly bears in the North Cascades ecosystem warrant a change to endangered status. We have continued to find that these petitions are warranted but precluded through our annual CNOR process. However, based on a limited number of grizzly bear observations in this ecosystem in the past few decades, the North Cascades ecosystem may no longer contain a population. In addition, this ecosystem is isolated from other grizzly bear populations in British Columbia and the United States, meaning that it is unlikely grizzly bears will reoccupy the ecosystem on their own. We are currently deliberating over whether to designate grizzly bears in this ecosystem as an experimental population to facilitate their reintroduction.

Until we complete those deliberations, we continue to find that reclassifying grizzly bears in this ecosystem as endangered is warranted but precluded, and we continue to assign an LPN of 3 for the uplisting of the North Cascades population based on high-magnitude threats, including human-caused mortality due to incomplete habitat-protection measures (motorized-access management), the limited number of bears, and genetic and demographic isolation from other populations. The threats are high in magnitude because the limiting factors for grizzly bears in this recovery zone are human-caused mortality and the limited number of individuals remaining. These threats are ongoing and imminent. However, higher-priority listing actions, including court-approved settlements, court-ordered and statutory deadlines for petition findings and listing determinations, emergency listing determinations, and responses to litigation, continue to preclude reclassifying grizzly bears in this ecosystem. Furthermore, proposed rules to reclassify threatened species to endangered are a lower priority than listing currently unprotected species, as species currently listed as threatened are already afforded protection under the Act and its implementing regulations.

Grizzly bear (Ursus arctos horribilis), Cabinet-Yaak ecosystem (CYE) population—Since 1992, we have received and reviewed six petitions requesting a change in status for the Cabinet-Yaak grizzly bear population (57 FR 14372, April 20, 1992; 58 FR 8250, February 12, 1993; 58 FR 43856, August 18, 1993; 63 FR 30453, June 4, 1998; 64 FR 26725, May 17, 1999; 81 FR 1368, January 12, 2016). In response to these petitions, in 1993, we determined that grizzly bears in the CYE warranted a change to endangered status (58 FR 8250; February 12, 1993). However, in the 2014 CNOR (79 FR 72450; December 5, 2014), we determined that threatened status was appropriate and that uplisting to endangered status was no longer warranted. In 2017, in Alliance for the Wild Rockies v. Ryan Zinke, 265 F. Supp. 3d 1161 (D. Mont. 2017), the District Court of Montana remanded the determination back to the Service for further consideration. Therefore, the CYE reverted back to the status of “warranted but precluded” for uplisting to endangered; this CNOR announces the result of our reevaluation of the CYE's status.

Since 2017, the Service completed an SSA of the grizzly bear in the lower 48 States, including the CYE, which provides a comprehensive biological status review. Scientific experts contributed to our analysis, and the draft SSA was independently peer reviewed and reviewed by partners, including those from State wildlife agencies, Federal agencies, and Tribal wildlife agencies. Although the CYE is still slowly recovering from being close to historical extirpation, it has experienced over a decade of positive population trends and high female survival. It has also significantly benefited from an augmentation program. Although levels of connectivity are still low, in recent years movement of male bears has been observed between the Yaak and Cabinet portions of the CYE, and males have immigrated into the Yaak portion of the CYE from British Columbia and subsequently bred. Therefore, we find that reclassifying grizzly bears in this ecosystem as endangered is no longer warranted. For an in depth review of the species' biology and an analysis of its' current and future conditions, refer to the SSA (Service 2021, entire).

However, the CYE grizzly bear population continues to face several threats, including human-caused mortality and motorized access, and continues to have low numbers of bears. In addition, our analysis of future conditions in the SSA showed that within 30 to 45 years in the future, the resiliency of the CYE could range from very low to high, depending on levels of future conservation efforts. Given these future projections, the grizzly bear in the CYE could experience increased risk of extinction under one out of the five future scenarios. Although all scenarios represent plausible future outcomes for the grizzly bear in the CYE, there is enough future uncertainty associated with conservation efforts such that we determined that the grizzly bear in the CYE remains likely to become in danger of extinction within the foreseeable future throughout all of its range. Therefore, grizzly bears in the Cabinet Yaak will retain their current status as threatened.

Delta Smelt

Delta smelt (Hypomesus transpacificus)—The following summary is based on information contained in our files and the April 7, 2010, 12-month finding published in the Federal Register (75 FR 17667); see that 12-month finding for additional information on why reclassification to endangered is warranted but precluded. In our 12-month finding, we determined that a change in status of the delta smelt from threatened to endangered was warranted, although precluded by other high-priority listings. The primary rationale for reclassifying delta smelt from threatened to endangered was the significant declines in species abundance that have occurred since 2001, and the continuing and unabated downward trend in all delta smelt cohorts after 2011 supports that finding. Results from 2015-2020 from all four of the surveys analyzed in this review have been the lowest ever recorded for the delta smelt, frequently returning zero or incalculable abundance index values. Delta smelt abundance, as indicated by the Fall Midwater Trawl (FMWT) survey, was exceptionally low between 2004 and 2010, increased during the wet year of 2011, and decreased again to very low levels at present. The last three FMWT surveys (2018-2020) have returned abundance indices of 0. The latest index of adult abundance, the 2021 Spring Kodiak Trawl (SKT) survey, resulted in an abundance index of 0. Abundance estimates for this year's adult spawning stock based on the SKT and the Enhanced Delta Smelt Monitoring surveys were the lowest estimates on record with 0 and 267 fish, respectively.

The primary threats to the delta smelt are direct entrainment by State and Federal water-export facilities, reduction of suitable habitat through summer and fall increases in salinity and water clarity that result from decreases in freshwater flow into the estuary, and effects from introduced species. Ammonia in the form of ammonium may also be a significant threat to the survival of the delta smelt. Additional potential threats are predation by striped bass, largemouth bass, and inland silversides; contaminants; climate change; and small population size. We have identified a number of existing regulatory mechanisms that provide protective measures that affect the stressors acting on the delta smelt. Despite these existing regulatory mechanisms and other conservations efforts, the stressors continue to act on the species such that it is warranted for uplisting under the Act.

As a result of our analysis of the best scientific and commercial data available, we have retained the recommendation of uplisting the delta smelt to an endangered species. We have assigned an LPN of 2, based on the high magnitude and high imminence of threats faced by the species. The magnitude of the threats is high because the threats occur rangewide and result in mortality or significantly reduce the reproductive capacity of the species. Threats are imminent because they are ongoing and, in some cases (e.g., nonnative species), are considered irreversible and worsening. Thus, we are maintaining an LPN of 2 for this species.

We note that an LPN of 2 does not connote that uplisting the species to endangered is a high priority for the Service. Because the delta smelt's current classification as threatened and the blanket section 4(d) rule that has prescribed protections for the species since it was listed already provide the species the full protections afforded by the Act, uplisting the species to endangered status will not substantively increase protections for the delta smelt, but would more accurately classify the species given its current status.

Pariette Cactus

Pariette cactus (Sclerocactus brevispinus) is restricted to clay badlands of the Uinta geologic formation in the Uinta Basin of northeastern Utah. The species is known from several subpopulations that comprise a single metapopulation with an overall range of approximately 20 miles by 14 miles in extent. The species' entire range is within a developed and expanding oil and gas field. The location of the species' habitat exposes it to destruction from road, pipeline, and well-site construction in connection with oil and gas development. The entire range is leased as rangeland for grazing of domestic livestock, and also heavily used by feral horses. Trampling from domestic, wild, and feral animals exposes the species to damage and death from trampling. The species may be illegally collected as a specimen plant for horticultural use. Recreational use of off-road vehicles poses an additional threat through crushing of individuals and habitat degradation. The species is currently federally listed as threatened (44 FR 58868, October 11, 1979; 74 FR 47112, September 15, 2009). In 2007, the Service determined that Pariette cactus was “warranted but precluded” for uplisting to endangered status, based on the current and future impacts to the species from energy development (72 FR 53211; September 18, 2007).

On August 11, 2020, the Service completed a 5-year status review for Pariette cactus (Service 2020), which is available at https://ecos.fws.gov/docs/five_year_review/doc6501.pdf. The 5-year review evaluated the best available information regarding the biology, status, and threats affecting the species, and found that since 2007, significant measures have been taken to reduce the impact of energy development on the species. These efforts have included the identification of core areas for protection with disturbance limits, the adoption of standard conservation measures by the primary land mangers (the Bureau of Land Management and Northern Ute Tribe) and operators, and the development of an energy-specific species management plan by the Northern Ute Tribe. For our full analysis of the status of Pariette cactus, see our 5-year status review (Service 2020).

Based on this new information and updated analysis, the 5-year review found that Pariette cactus is not in danger of extinction but is likely to become so in the foreseeable future, and therefore recommended that the species' status should remain as threatened. Therefore, we find that Pariette cactus is no longer warranted for uplisting to endangered status. The species remains listed as threatened.

Northern Spotted Owl

On June 26, 1990, we published in the Federal Register (55 FR 26114) a final rule listing the northern spotted owl (Strix occidentalis caurina) as a threatened species. On August 21, 2012, we received a petition dated August 15, 2012, from the Environmental Protection Information Center requesting that the northern spotted owl be listed as an endangered species pursuant to the Act. On April 10, 2015, we published a 90-day finding (80 FR 19259), in which we announced that the petition presented substantial information indicating that reclassification may be warranted for the northern spotted owl and that our status review would also constitute our 5-year status review for the species. On December 15, 2020, we published a 12-month finding in the Federal Register (85 FR 81144) in which we stated that reclassification of the northern spotted owl from threatened to endangered was warranted but precluded by higher priority actions.

The northern spotted owl is the largest of three subspecies of spotted owls, and inhabits structurally complex forests from southwestern British Columbia through Washington, Oregon, and into northern California. The historical range of the northern spotted owl included most mature forests or stands throughout the Pacific Northwest, from southwestern British Columbia to as far south as Marin County, California. The current range of the northern spotted owl is smaller than the historical range, as the northern spotted owl is extirpated or very uncommon in certain areas such as southwestern Washington and British Columbia.

Northern spotted owls rely on older forested habitats because such forests contain the structures and characteristics required for nesting, roosting, and foraging. The northern spotted owl is relatively long-lived, has a long reproductive life span (6 to 9 years; Loschl 2008, p. 107), invests significantly in parental care, and exhibits high adult survivorship relative to other North American owls (Forsman et al. 1984, entire; Gutiérrez et al. 1995, p. 5). Northern spotted owl diets vary across owl territories, years, seasons, geographical regions, and forest type (Forsman et al. 2001, pp. 146-148; 2004, pp. 217-220). Home-range sizes of the northern spotted owl vary geographically, generally increasing from south to north, which is likely a response to differences in habitat quality including structural complexity of forest conditions and availability of prey (55 FR 26114; June 26, 1990). Within the home range, there is typically a smaller area of concentrated activity (approximately 20 percent of the home range), often referred to as the core area (Bingham and Noon 1997, pp. 133-135). Successful juvenile dispersal may depend on locating unoccupied suitable habitat in close proximity to other occupied sites (LaHaye et al. 2001, pp. 697-698). Habitat requirements for nesting and roosting are nearly identical. However, nesting habitat is most often associated with a high incidence of large trees with various deformities or large snags suitable for nest placement. Foraging habitat is the most variable of all habitats used by territorial northern spotted owls, and is closely tied to the prey base. Foraging habitat generally has attributes similar to those of nesting/roosting habitat, but foraging habitat may not always support successful nesting pairs (USDI 1992, pp. 22-25). Dispersal habitat is essential to maintaining stable populations by providing connectivity for owls filling territorial vacancies when resident northern spotted owls die or leave their territories, and by providing adequate gene flow across the range of the subspecies.

We have carefully assessed the best scientific and commercial information available regarding the past, present, and future threats to the northern spotted owl, and we evaluated all relevant factors under the five listing factors, including any regulatory mechanisms and conservation measures addressing these stressors. The primary stressors affecting the northern spotted owl's biological status include lag effects of past habitat loss, continued timber harvest, wildfire, and incursion of the nonnative barred owl, which is currently the stressor with the largest negative impact on northern spotted owls. On non-Federal lands, State regulatory mechanisms have not prevented the continued decline of nesting/roosting and foraging habitat; the amount of northern spotted owl habitat on these lands has decreased considerably over the past two decades, including in geographic areas where Federal lands are lacking. On Federal lands, the Northwest Forest Plan has reduced habitat loss and allowed for the development of new northern spotted owl habitat, and the 2016 revised Resource Management Plans for the Bureau of Land Management's lands in western Oregon are expected to do the same; however, the combined effects of climate change, high-severity wildfire, and past management practices are changing forest ecosystem processes and dynamics, and the expansion of barred owl populations is altering the capacity of intact habitat to support northern spotted owls.

Therefore, we find that reclassification of the northern spotted owl as an endangered species under the Act is warranted and assign the species an LPN of 3. A detailed discussion of the basis for this finding can be found in our northern spotted owl SSA, as well as in our 12-month finding published on December 15, 2020 (85 FR 81144), in which we found that reclassification of the northern spotted owl from threatened to endangered was warranted but precluded by higher priority actions.

Because the northern spotted owl's current classification as threatened and the blanket section 4(d) rule that has prescribed protections for the species since it was listed already provide the species the full protections afforded by the Act, uplisting the species to endangered status will not substantively increase protections for the northern spotted owl, but would more accurately classify the species given its current status.

Current Notice of Review

We gather data on plants and animals, both native and foreign to the United States, that appear to merit consideration for addition to the Lists of Endangered and Threatened Wildlife and Plants (Lists). This document identifies those species that we currently regard as candidates for addition to the Lists. These candidates include species and subspecies of fish, wildlife, or plants, and DPSs of vertebrate animals. This compilation relies on information from status surveys conducted for candidate assessment and on information from Tribes, State Natural Heritage Programs, other State and Federal agencies, foreign countries, knowledgeable scientists, public and private natural resource interests, and comments received in response to previous CNORs.

Tables 5 and 6, below, list animals arranged alphabetically by common names under the major group headings, and list plants alphabetically by names of genera, species, and relevant subspecies and varieties. Animals are grouped by class or order. Useful synonyms and subgeneric scientific names appear in parentheses with the synonyms preceded by an “equals” sign. We sort plants by scientific name due to the inconsistencies in common names, the inclusion of vernacular and composite subspecific names, and the fact that many plants still lack a standardized common name.

Table 5 lists all candidate species, plus species currently proposed for listing under the Act (as of September 30, 2021). We emphasize that in this document that we are not proposing to list any of the candidate species; rather, we will develop and publish proposed listing rules for these species in the future. We encourage Tribes, State agencies, other Federal agencies, foreign countries and other parties to consider these species in environmental planning.

In Table 5, the “category” column on the left side of the table identifies the status of each species according to the following codes (not all of these codes may have been used in this CNOR):

PE—Species proposed for listing as endangered. This category, as well as PT and PSAT (below), does not include species for which we have withdrawn or finalized the proposed rule.

PT—Species proposed for listing as threatened.

PSAE—Species proposed for listing as endangered due to similarity of appearance.

PSAT—Species proposed for listing as threatened due to similarity of appearance.

C—Candidates: Species for which we have on file sufficient information on biological vulnerability and threats to support proposals to list them as endangered or threatened. Issuance of proposed rules for these species is precluded at present by other higher priority listing actions. This category includes species for which we made a 12-month warranted-but-precluded finding on a petition to list. Our analysis for this document included making new findings on all petitions for which we previously made “warranted-but-precluded” findings. We identify the species for which we made a continued warranted-but-precluded finding on a resubmitted petition by the code “C*” in the category column (see Findings for Petitioned Candidate Species, above, for additional information).

The “Priority” column indicates the LPN for each candidate species, which we use to determine the most appropriate use of our available resources. The lowest numbers have the highest priority. We assign LPNs based on the immediacy and magnitude of threats, as well as on taxonomic status. We published a complete description of our listing priority system in the Federal Register (48 FR 43098; September 21, 1983).

Following the scientific name (third column) and the family designation (fourth column) is the common name (fifth column). The sixth column provides the known historical range for the species or vertebrate population (for vertebrate populations, this is the historical range for the entire species or subspecies and not just the historical range for the distinct population segment), indicated by postal code abbreviations for States and U.S. territories or by country for foreign species. Many species no longer occur in all of the areas listed.

Species in Table 6 of this document are those species that we included either as proposed species or as candidates in the previous CNORs (domestic published November 16, 2020 (85 FR 73164); foreign published August 9, 2021 (86 FR 43470)) that are no longer proposed species or candidates for listing (as of September 30, 2021). In FY 2021, we listed nine species, and we removed one species from the candidate list by withdrawing a proposed rule. The first column indicates the present status of each species, using the following codes (not all of these codes may have been used in this CNOR):

E—Species we listed as endangered.

T—Species we listed as threatened.

SAT—Species we listed as threatened due to similarity of appearance.

Rc—Species we removed from the candidate list, because currently available information does not support a proposed listing.

Rp—Species we removed from the candidate list, because we have withdrawn the proposed listing.

The second column indicates why the species is no longer a candidate species or proposed for listing, using the following codes (not all of these codes may have been used in this CNOR):

A—Species that are more abundant or widespread than previously believed and species that are not subject to the degree of threats sufficient that the species is a candidate for listing (for reasons other than that conservation efforts have removed or reduced the threats to the species).

I—Species for which the best available information on biological vulnerability and threats is insufficient to support a conclusion that the species is an endangered species or a threatened species.

L—Species we added to the Lists of Endangered and Threatened Wildlife and Plants.

M—Species we mistakenly included as candidates or proposed species in the last notice of review.

N—Species that are not listable entities based on the Act's definition of “species” and current taxonomic understanding.

U—Species that are not subject to the degree of threats sufficient to warrant issuance of a proposed listing and therefore are not candidates for listing, due, in part or totally, to conservation efforts that remove or reduce the threats to the species.

X—Species we believe to be extinct.

The columns describing scientific name, family, common name, and historical range include information as previously described for Table 5.

Request for Information

We request additional status information that may be available for any of the candidate species identified in this CNOR. We will consider this information to monitor changes in the status or LPN of candidate species and to manage candidates as we prepare listing documents and future revisions to the CNOR. We also request information on additional species to consider including as candidates as we prepare future updates of this CNOR.

We request you submit any further information on the species named in this document as soon as possible or whenever it becomes available. We are particularly interested in any information:

(1) Indicating that we should add a species to the list of candidate species;

(2) Indicating that we should remove a species from candidate status;

(3) Recommending areas that we should designate as critical habitat, or indicating that designation of critical habitat would not be prudent;

(4) Documenting threats to any of the included species;

(5) Describing the immediacy or magnitude of threats facing candidate species;

(6) Pointing out taxonomic or nomenclature changes for any of the species;

(7) Suggesting appropriate common names; and

(8) Noting any mistakes, such as errors in the indicated historical ranges.

We will consider all information provided in response to this CNOR in deciding whether to propose species for listing and when to undertake necessary listing actions (including whether emergency listing under section 4(b)(7) of the Act is appropriate).

Submit information, materials, or comments regarding the species to the person identified as having the lead responsibility for the species in table 4 below.

Table 4—Contacts for Candidate Species and Species Proposed for Listing
Species | Contact name | Address and telephone
Dolly varden trout, Mt. Rainier white-tailed ptarmigan, and northern spotted owl | Robyn Thorson | Regional Director, U.S. Fish and Wildlife Service, Eastside Federal Complex, 911 NE 11th Avenue, Portland, OR 97232-4181; telephone: 503-231-6158.
Arizona eryngo, false spike, Guadalupe fatmucket, Guadalupe orb, lesser prairie-chicken (northern and southern DPSs), peppered chub, South Llano Springs moss, Texas fatmucket, Texas fawnsfoot, Texas pimpleback, Wright's marsh thistle, roundtail chub, Rio Grande cutthroat trout, bracted twistflower, Peñasco least chipmunk, and Sonoran desert tortoise | Amy Lueders | Regional Director, U.S. Fish and Wildlife Service, 500 Gold Avenue SW, Room 4012, Albuquerque, NM 87102; telephone: 505-248-6920.
Big Creek crayfish, round hickorynut, St. Francis River crayfish, and monarch butterfly | Charlie Wooley | Regional Director, U.S. Fish and Wildlife Service, 5600 American Blvd. West, Suite 990, Bloomington, MN 55437-1458; telephone: 612-713-5334.
Atlantic pigtoe *, black-capped petrel, Canoe Creek clubshell, frecklebelly madtom (Upper Coosa River DPS), longsolid, marron bacora, Panama City crayfish *, pink pigtoe, Puerto Rico harlequin butterfly, sickle darter, Suwannee alligator snapping turtle, gopher tortoise, and magnificent ramshorn | Leo Miranda-Castro | Regional Director, U.S. Fish and Wildlife Service, 1875 Century Boulevard, Suite 200, Atlanta, GA 30345; telephone: 404-679-4156.
bog buck moth | Wendi Weber | Regional Director, U.S. Fish and Wildlife Service, 300 Westgate Center Dr., Hadley, MA 01035; telephone: 413-253-8200.
Chapin Mesa milkvetch, grizzly bear, Pariette cactus, and whitebark pine | Matt Hogan | Acting Regional Director, U.S. Fish and Wildlife Service, P.O. Box 25486, Denver Federal Center, Denver, CO 80225-0486; telephone: 303-236-7400.
Delta smelt, Hermes copper butterfly *, Tiehm's buckwheat, and longfin smelt | Paul Souza | Regional Director, U.S. Fish and Wildlife Service, 2800 Cottage Way, Suite W2606, Sacramento, CA 95825; telephone: 916-414-6464.
Amur sturgeon, Dolphin-Union caribou, emperor penguin, Egyptian tortoise, Sira curassow, southern helmeted curassow, Lord Howe Island pied currawong, Chatham oystercatcher, orange-fronted parakeet, Bogota rail, Takahē, black-backed tanager, Brasília tapaculo, yellow-browed toucanet, Gizo white-eye, helmeted woodpecker, Okinawa woodpecker, Colorado Delta clam, fluminense swallowtail butterfly, Hahnel's Amazonian swallowtail butterfly, Harris' mimic swallowtail butterfly, Jamaican kite swallowtail butterfly, and Kaiser-i-Hind swallowtail butterfly | Gary Frazer | Assistant Director, Ecological Services, U.S. Fish and Wildlife Service, 5275 Leesburg Pike, MS: ES, Falls Church, VA 22041; telephone: 202-208-4646.
* Denotes species for which a final listing determination has published subsequent to the end of FY 2021 (after September 30, 2021).

We will provide information we receive to the office having lead responsibility for each candidate species mentioned in the submission, and information and comments we receive will become part of the administrative record for the species, which we maintain at the appropriate office.

Public Availability of Comments

Before including your address, phone number, email address, or other personal identifying information in your submission, be advised that your entire submission—including your personal identifying information—may be made publicly available at any time. Although you can ask us in your submission to withhold from public review your personal identifying information, we cannot guarantee that we will be able to do so.

Authority

This document is published under the authority of the Endangered Species Act of 1973, as amended (16 U.S.C. 1531 et seq.).

Martha Williams,
Director, U.S. Fish and Wildlife Service.

Table 5—Candidate Notice of Review (Animals and Plants)
[Note: See end of SUPPLEMENTARY INFORMATION for an explanation of symbols used in this table.]
Status: Category | Status: Priority | Scientific name | Family | Common name | Historical range
MAMMALS
PE |  | Neotamias minimus atristriatus | Sciuridae | Chipmunk, Peñasco least | U.S.A. (NM).
PT |  | Rangifer tarandus groenlandicus x pearyi | Cervidae | Caribou, Dolphin-Union | Canada.
BIRDS
PT |  | Lagopus leucura rainierensis | Phasianidae | Ptarmigan, Mt. Rainier white-tailed | U.S.A. (WA), Canada (BC).
PT |  | Tympanuchus pallidicinctus | Phasianidae | Prairie-chicken, lesser (northern DPS) | U.S.A. (CO, KS, NM, OK, TX).
PE |  | Tympanuchus pallidicinctus | Phasianidae | Prairie-chicken, lesser (southern DPS) | U.S.A. (CO, KS, NM, OK, TX).
PT |  | Pterodroma hasitata | Procellariidae | Petrel, black-capped | Dominican Republic, Haiti, U.S.A. (GA, NC, SC).
PT |  | Aptenodytes forsteri | Spheniscidae | Penguin, emperor | Antarctica.
C * | 2 | Pauxi koepckeae | Cracidae | Curassow, Sira | Peru.
C * | 2 | Pauxi unicornis | Cracidae | Curassow, southern helmeted | Bolivia.
C * | 6 | Strepera graculina crissalis | Cracticidae | Currawong, Lord Howe Island pied | Lord Howe Island, New South Wales.
C * | 8 | Haematopus chathamensis | Haematopodidae | Oystercatcher, Chatham | Chatham Islands, New Zealand.
C * | 8 | Cyanoramphus malherbi | Psittacidae | Parakeet, orange-fronted | New Zealand.
C * | 2 | Rallus semiplumbeus | Rallidae | Rail, Bogota | Colombia.
C * | 8 | Porphyrio hochstetteri | Rallidae | Takahē | New Zealand.
C * | 8 | Tangara peruviana | Thraupidae | Tanager, black-backed | Brazil.
C * | 2 | Scytalopus novacapitalis | Rhinocryptidae | Tapaculo, Brasilia | Brazil.
C * | 2 | Aulacorhynchus huallagae | Ramphastidae | Toucanet, yellow-browed | Peru.
C * | 2 | Zosterops luteirostris | Zosteropidae | White-eye, Gizo | Solomon Islands.
C * | 8 | Celeus galeatus | Picidae | Woodpecker, helmeted | Argentina, Brazil, Paraguay.
C * | 2 | Dendrocopos noguchii | Picidae | Woodpecker, Okinawa | Okinawa Island, Japan.
REPTILES
PT |  | Macrochelys suwanniensis | Chelydridae | Turtle, Suwannee alligator snapping | U.S.A. (GA, FL).
PT |  | Testudo kleinmanni | Testudinidae | Tortoise, Egyptian | Egypt, Libya, Israel.
C * | 5 | Gopherus morafkai | Testudinidae | Tortoise, Sonoran desert | U.S.A. (AZ), Mexico.
C * | 8 | Gopherus polyphemus | Testudinidae | Tortoise, gopher (eastern population) | U.S.A. (AL, FL, GA, LA, MS, SC).
FISHES
PE |  | Acipenser schrenckii | Acipenseridae | Sturgeon, Amur | China, Russia.
PSAT |  | Salvelinus malma | Salmonidae | Trout, Dolly Varden | U.S.A. (AK, WA), Canada, East Asia.
PE |  | Macrhybopsis tetranema | Cyprinidae | Chub, peppered | U.S.A. (CO, KS, NM, OK, TX).
PT |  | Noturus munitus | Ictaluridae | Madtom, frecklebelly (Upper Coosa River DPS) | U.S.A. (AL, GA, LA, MS, TN).
PT |  | Percina williamsi | Percidae | Darter, sickle | U.S.A. (NC, TN, VA).
C * |  | Gila robusta | Cyprinoidea | Chub, roundtail | U.S.A. (AZ, CA, NV, NM).
C * |  | Oncorhynchus clarkii virginalis | Salmonidae | Trout, Rio Grande cutthroat | U.S.A. (CO, NM, TX).
C * | 3 | Spirinchus thaleichthys | Osmeridae | Smelt, longfin (San Francisco Bay-Delta DPS) | U.S.A. (CA).
CLAMS
PE |  | Pleurobema athearni | Unionidae | Clubshell, Canoe Creek | U.S.A. (AL).
PE |  | Fusconaia mitchelli | Unionidae | Spike, false | U.S.A. (TX).
PE |  | Lampsilis bergmanni | Unionidae | Fatmucket, Guadalupe | U.S.A. (TX).
PE |  | Cyclonaias necki | Unionidae | Orb, Guadalupe | U.S.A. (TX).
PE |  | Lampsilis bracteata | Unionidae | Fatmucket, Texas | U.S.A. (TX).
PT |  | Truncilla macrodon | Unionidae | Fawnsfoot, Texas | U.S.A. (TX).
PE |  | Cyclonaias petrina | Unionidae | Pimpleback, Texas | U.S.A. (TX).
PT |  | Obovaria subrotunda | Unionidae | Hickorynut, round | U.S.A. (AL, GA, IL, IN, KY, MI, MS, NY, OH, PA, TN, WV), Canada.
PT |  | Fusconaia subrotunda | Unionidae | Longsolid | U.S.A. (AL, GA, IL, IN, KY, MS, MO, NY, NC, OH, PA, SC, TN, VA, WV).
PT |  | Pleurobema rubrum | Unionidae | Pigtoe, pyramid | U.S.A. (AL, KY, TN).
C * | 8 | Mulinia modesta | Mactridae | Clam, Colorado Delta | Mexico.
SNAILS
C * | 2 | Planorbella magnifica | Planorbidae | Ramshorn, magnificent | U.S.A. (NC).
INSECTS
PT |  | Atlantea tulita | Nymphalidae | Puerto Rico harlequin butterfly | U.S.A. (PR).
C | 8 | Danaus plexippus | Nymphalidae | Butterfly, monarch | U.S.A. + 90 Countries.
C * | 2 | Parides ascaniusAscanius | Papilionidae | Butterfly, Fluminense swallowtail | Brazil.
C * | 2 | Parides hahneli | Papilionidae | Butterfly, Hahnel's Amazonian swallowtail | Brazil.
C * | 3 | Mimoides (= Eurytides) lysithous harrisianus | Papilionidae | Butterfly, Harris' mimic swallowtail | Brazil.
C * | 2 | (Protographium (= Eurytides) marcellinus) | Papilionidae | Butterfly, Jamaican kite swallowtail | Jamaica.
C * | 8 | Teinopalpus imperialis | Papilionidae | Butterfly, Kaiser-i-Hind swallowtail | Bhutan, China, India, Loas, Myanmar, Nepal, Thailand, Vietnam.
FLOWERING PLANTS
PE |  | Eryngium sparganophyllum | Apiaceae | Eryngo, Arizona | U.S.A. (AZ).
PT |  | Cirsium wrightii | Asteraceae | Thistle, Wright's marsh | U.S.A. (AZ, NM), Mexico.
PE |  | Solanum conocarpum | Solanaceae | Bacora, marron | U.S.A. (PR).
PT |  | Astragalus schmolliae | Fabaceae | Milkvetch, Chapin Mesa | U.S.A. (CO).
C * | 8 | Streptanthus bracteatus | Brassicaceae | Bracted twistflower | U.S.A. (TX).
CONIFERS AND CYCADS
PT |  | Pinus albicaulis | Pinaceae | Pine, whitebark | U.S.A. (CA, ID, MT, NV, OR, WA, WY), Canada (AB, BC).
LICHENS
PE |  | Donrichardsia macroneuron | Brachytheciaceae | Moss, South Llano Springs | U.S.A. (TX).

Table 6—Animals and Plants Formerly Candidates or Formerly Proposed for Listing
[Note: See end of SUPPLEMENTARY INFORMATION for an explanation of symbols used in this table.]
Status: Code | Status: Expl. | Scientific name | Family | Common name | Historical range
MAMMALS
E | L | Vulpes vulpes necator | Canidae | Fox, Sierra Nevada red (Sierra Nevada DPS) | U.S.A. (CA, OR).
T | L | Martes caurina | Mustelidae | Marten, Pacific (coastal DPS) | U.S.A. (CA).
Rp | N | Gulo gulo luscus | Mustelidae | Wolverine, North American (Contiguous U.S. DPS) | U.S.A. (CA, CO, ID, MT, OR, UT, WA, WY).
BIRDS
T | L | Laterallus jamaicensis jamaicensis | Rallidae | Rail, eastern black | U.S.A. (AL, AK, CO, CT, DE, FL, GA, IL, IN, IA, KN, KT, LA, MD, MA, MI, MN, MS, MO, NE, NH, NJ, NM, NY, NC, OH, OK, PA, PR, RI, SC, TN, TX, VT, VA, VI, WV, WI).
AMPHIBIANS
E | L | Cryptobranchus alleganiensis alleganiensis | Cryptobranchidae | Hellbender, eastern (Missouri DPS) | U.S.A. (MO).
T | L | Necturus lewisi | Proteidae | Waterdog, Neuse River | U.S.A. (NC).
FISHES
E | L | Noturus furiosus | Ictaluridae | Madtom, Carolina | U.S.A. (NC).
E | L | Acipenser dabryanus | Acipenseridae | Sturgeon, Yangtze | China.
CLAMS
T | L | Fusconaia masoni | Unionidae | Pigtoe, Atlantic | U.S.A. (GA, NC, VA).
INSECTS
E | L | Bombus franklini | Apidae | Bumble bee, Franklin's | U.S.A. (CA, OR).
T | L | Lycaena hermes | Lycaenidae | Butterfly, Hermes copper | U.S.A. (CA).
CRUSTACEANS
E | L | Cambarus cracens | Cambaridae | Crayfish, slenderclaw | U.S.A. (AL).
T | L | Procambarus econfinae | Cambaridae | Crayfish, Panama City | U.S.A. (FL).

[FR Doc. 2022-09376 Filed 5-2-22; 8:45 am]

BILLING CODE 4333-15-P